DEPARTMENT OF AGRICULTURE

7 CFR Parts 15, 15b

RIN 0566-AB78

NUCLEAR REGULATORY COMMISSION

10 CFR Part 4

RIN 3130-AG65

DEPARTMENT OF ENERGY

10 CFR Part 1040

RIN 1901-AA86

SMALL BUSINESS ADMINISTRATION

13 CFR Parts 112, 117

RIN 3245-AE59

NATIONAL AERONAUTICS AND SPACE ADMINISTRATION

14 CFR Parts 1250, 1251, 1252

RIN 2700-AC41

DEPARTMENT OF COMMERCE

15 CFR Parts 8, 8b, 20

RIN 0690-AA30

TENNESSEE VALLEY AUTHORITY

18 CFR Parts 1302, 1307, 1309

RIN 3316-AA20

DEPARTMENT OF STATE

22 CFR Parts 141, 142, 143

RIN 1400-AB17

AGENCY FOR INTERNATIONAL DEVELOPMENT

22 CFR Parts 209, 217, 218

RIN 0412-AA45

DEPARTMENT OF JUSTICE

28 CFR Part 42

RIN 1190-AA49

DEPARTMENT OF LABOR

29 CFR Parts 31, 32

RIN 1291-AA31

DEPARTMENT OF VETERANS AFFAIRS

38 CFR Part 18

RIN 2900-AK13

ENVIRONMENTAL PROTECTION AGENCY

40 CFR Part 7

RIN 2020-AA43

GENERAL SERVICES ADMINISTRATION

41 CFR Parts 101-6, 101-8

RIN 3090-AH33

DEPARTMENT OF THE INTERIOR

43 CFR Part 17

RIN 1090-AA77

DEPARTMENT OF HOMELAND SECURITY

Federal Emergency Management Agency

44 CFR Part 7

RIN 1660-AA12

NATIONAL SCIENCE FOUNDATION

45 CFR Parts 605, 611, 617

RIN 3145-AA38

NATIONAL FOUNDATION ON THE ARTS AND THE HUMANITIES

National Endowment for the Arts

45 CFR Parts 1110, 1151, 1156

RIN 3135-AA17

NATIONAL FOUNDATION ON THE ARTS AND THE HUMANITIES

National Endowment for the Humanities

45 CFR Parts 1110, 1170

RIN 3136-AA24

NATIONAL FOUNDATION ON THE ARTS AND THE HUMANITIES

Institute of Museum and Library Services

45 CFR Part 1110

RIN 3137-AA11

CORPORATION FOR NATIONAL AND COMMUNITY SERVICE

45 CFR Parts 1203, 1232

RIN 3045-AA29

DEPARTMENT OF TRANSPORTATION

49 CFR Parts 21, 27

RIN 2105-AC96

Nondiscrimination on the Basis of Race, Color, or National Origin in Programs or Activities Receiving Federal Financial Assistance; Nondiscrimination on the Basis of Handicap in Programs or Activities Receiving Federal Financial Assistance; Nondiscrimination on the Basis of Age in Programs or Activities Receiving Federal Financial Assistance

AGENCIES: Department of Agriculture; Nuclear Regulatory Commission; Department of Energy; Small Business Administration; National Aeronautics and Space Administration; Department of Commerce; Tennessee Valley Authority; Department of State; Agency for International Development; Department of Justice; Department of Labor; Department of Veterans Affairs; Environmental Protection Agency; General Services Administration; Department of the Interior; Federal Emergency Management Agency, Emergency Preparedness and Response Directorate, Department of Homeland Security; National Science Foundation; National Endowment for the Arts, National Endowment for the Humanities, Institute of Museum and Library Services, National Foundation on the Arts and the Humanities; Corporation for National and Community Service; Department of Transportation (collectively, “the Agencies”).

ACTION: Joint final rule.

SUMMARY: The Agencies amend their regulations implementing Title VI of the Civil Rights Act of 1964 (“Title VI”), section 504 of the Rehabilitation Act of 1972 (“section 504”), and the Age Discrimination Act of 1975 (“Age Discrimination Act”). Together, these statutes prohibit discrimination on the basis of race, color, national origin, disability, and age in programs or activities that receive federal financial assistance. In 1988, the Civil Rights Restoration Act (“CRRA”) added definitions of “program or activity” and “program” to Title VI and added a definition of “program or activity” to section 504 and the Age Discrimination Act. The added definitions were designed to clarify the broad scope of coverage of recipients' programs or activities under these statutes. These amendments incorporate the CRRA's definitions of “program or activity” and “program” into Title VI, section 504, and Age Discrimination Act regulations of the Agencies, and promote consistent and adequate enforcement of these statutes by the Agencies.¹

¹ Since the publication of the Notice of Proposed Rulemaking (NPRM), the Federal Emergency Management Agency (FEMA) has become a component of the Department of Homeland Security (DHS). DHS published its Interim Final Rules for Title VI, Section 504, and Title IX of the Education Amendments of 1972 in the Federal Register on March 6, 2003. 68 FR 10904 (to be codified at 6 CFR part 21). Those rules reflect the Civil Rights Restoration Act's broadened definitions of “program” “Program or activity.” FEMA is continuing as part of this rulemaking because the DHS regulations provide that “[t]he provisions published by this part shall be effective for all components of the Department, including all Department components that are transferred to the Department, except to the extent that a Department component already has existing title VI regulations.” 6 CFR 21.1. Similar language is included in DHS’ Title XI and section 504 regulations.

DATES: Effective September 25, 2003.

FOR FURTHER INFORMATION CONTACT: Merrily A. Friedlander, Chief, Coordination and Review Section, Civil Rights Division, U.S. Department of Justice, (202) 307-2222 voice, (202) 307-2678 TTY, (202) 307-0595 fax.

Individuals with disabilities may obtain this document in an alternative format (e.g., Braille, large print, audiotape, or computer diskette) on request to the contact person listed in the preceding paragraph.

supplementary information:

Overview

On December 6, 2000, the Agencies published a notice of proposed rulemaking (NPRM) in the Federal Register (65 FR 76460) proposing to amend the regulations governing nondiscrimination on the basis of race, color, national origin, handicap, and age to conform with the Civil Rights Restoration Act of 1987, Pub. L. 100-259 (“CRRA”).

The Agencies are amending their civil rights regulations to conform to provisions of the CRRA regarding the scope of coverage under civil rights statutes they administer. These statutes include Title VI of the Civil Rights Act of 1964, as amended, 42 U.S.C. 2000d, et seq. (“Title VI”); section 504 of the Rehabilitation Act of 1973, as amended, 29 U.S.C. 794 (“section 504”); and the Age Discrimination Act of 1975, as amended, 42 U.S.C. 6101, et seq. (“Age Discrimination Act”). Title VI prohibits discrimination on the basis of race, color, and national origin in all programs or activities that receive federal financial assistance; section 504 prohibits discrimination on the basis of disability in all programs or activities that receive federal financial assistance; and the Age Discrimination Act prohibits discrimination on the basis of age in all programs or activities that receive federal financial assistance. (Note that the CRRA does not affect coverage under federal employment nondiscrimination statutes, such as Title VII of the Civil Rights Act of 1964, Title I of the Americans with Disabilities Act, and the Age Discrimination in Employment Act.)

Background Information

The principal conforming change amends each of these regulations to add a definition of “program or activity” or “program” that reflects the statutory definition of “program or activity” or “program” enacted as part of the CRRA. We believe that adding this statutory definition to the regulatory language is the best way to avoid confusion on the part of beneficiaries, recipients, government entities, and other interested parties about the scope of civil rights coverage. These amendments also conform to a final rule under Title IX of the Education Amendments of 1972, as amended, to establish common regulations for 21 federal agencies published on August 30, 2000, 65 FR 52857. That common rule incorporated the statutory definitions of “program or activity” and “program” enacted as part of the CRRA.

When originally issued and implemented, the Agencies' civil rights regulations were interpreted by the Agencies to mean that acceptance of federal assistance by a recipient resulted in broad coverage of an entity. The Supreme Court, however, interpreted “program or activity” in restrictive terms. Grove City College v. Bell, 465 U.S. 555, 570-74 (1984). The Court concluded in Grove City College that federal student financial assistance provided to a college established jurisdiction under Title IX only over the college's financial aid program, not the entire college. Since Title IX was patterned after Title VI, this interpretation significantly narrowed the prohibitions of Title VI and two other statutes based on it: the Age Discrimination Act and section 504. See S. Rep. No. 100-64, at 2-3, 11-16, reprinted in 1988 U.S.C.C.A.N. at 3-5, 13-18. Following the Supreme Court's decision in Grove City, the Agencies changed their interpretation, but not the language, of the governing regulations to be consistent with the Court's restrictive, program-specific definition of “program or activity.”

In 1988, Congress enacted the CRRA to restore the prior consistent and long-standing executive branch interpretation and “broad, institution-wide application” of those laws as previously administered. See S. Rep. No. 100-64, at 4, reprinted in 1988 U.S.C.C.A.N. at 6. Congress enacted the CRRA in order to remedy what it perceived to be a serious narrowing by the Supreme Court of a longstanding administrative interpretation of the coverage of these laws. At that time, the Agencies reinstated their broad interpretation to be consistent with the CRRA, again without changing the language of the regulations. To the extent there was any inconsistency between the language of the regulations and the language of the CRRA, it was and remains the Agencies' interpretation that the CRRA superseded the regulations and, therefore, the regulations must be read in conformity with the CRRA. This interpretation was consistent with the understanding of Congress as expressed in the legislative history of the CRRA that the statutory definition of “program or activity” would take effect immediately without the need for federal agencies to amend their existing regulations. S. Rep. No. 100-64, at 32, reprinted in 1988 U.S.C.C.A.N. at 34.

These regulatory amendments are designed to address an issue recently raised by the Third Circuit Court of Appeals in Cureton v. NCAA, 198 F.3d 107 (3d Cir. 1999). The Third Circuit determined that, because the Departments of Health and Human Services and Education did not amend their Title VI regulations after the enactment of the CRRA, application of the Departments' Title VI regulations to disparate impact discrimination claims is “program specific” (i.e., limited to the particular program receiving federal financial assistance), rather than institution-wide (i.e., applicable to all of the operations of the institution regardless of the use of the federal funds). See id. at 114-16. As noted above, however, the Agencies have, since the passage of the CRRA, consistently interpreted the coverage of their Title VI regulations to reach those programs that fall within the broad statutory definition of “program or activity.” The Cureton decision thwarts clearly expressed congressional intent by giving continued effect to a judicial interpretation that Congress intended to override. In any event, the regulatory changes address the concerns raised by the Third Circuit in that the regulations would track the CRRA's statutory language and apply to both disparate impact and disparate treatment forms of discrimination. (“Disparate treatment,” i.e., intentional discrimination, refers to policies or practices that treat individuals differently based on their race, color, national origin, disability, or age, as applicable. Discrimination that involves such disparate treatment is barred by the civil rights statutes and regulations. “Disparate impact” refers to criteria or methods of administration that have a significant adverse effect on individuals based on race, color, national origin, disability, or age, as applicable. Such criteria or practices constitute impermissible discrimination if there is no substantial legitimate justification for those criteria or practices. However, even where such a justification exists, if there is an equally effective but less discriminatory alternative, that alternative must be adopted.)

Pursuant to Executive Order 12250 (“Leadership and Coordination of Nondiscrimination Laws”), the Department of Justice (“DOJ”) requested that the Agencies jointly issue amendments to their regulations implementing Title VI, Section 504, and the Age Discrimination Act to incorporate the CRRA definitions of “program” and “program or activity.” The two federal agencies implicated in the Cureton decision—the Department of Education (“ED”) and the Department of Health and Human Services (“HHS”)—are promulgating separate rules to incorporate the CRRA's expanded definition of “program or activity” and “program” in their regulations. ED published its NPRM on May 5, 2000, 65 FR 26464, and published its final rule on November 13, 2000, 65 FR 68050. HHS published its NPRM on October 26, 2000, 65 FR 64194, and plans to publish its final rule soon. DOJ participated in and coordinated the promulgation of amendments to 22 other agencies' Title VI, Section 504, and Age Discrimination Act regulations. 65 FR 76460. Again, while DOJ views these modifications to be merely technical in nature, public comments were invited on these modifications.

These changes are summarized in the sections below.

Definition of “Program or Activity” and “Program”

The statutory definition, which is now incorporated into the regulations, addresses the scope of coverage for four broad categories of recipients: (1) State or local governmental entities; (2) colleges, universities, other postsecondary educational institutions, public systems of higher education, local educational agencies, systems of vocational education, and other school systems; (3) private entities, such as corporations, partnerships, and sole proprietorships; and (4) entities that are a combination of any of those groups. See 42 U.S.C. 2000d-4a.

Under the first part of the definition, when State and local governmental entities receive financial assistance from a federal agency, the “program or activity” or “program” in which discrimination is prohibited includes all of the operations of any State or local department or agency to which the federal assistance is extended. If, for example, a State or local agency receives federal assistance for one of many functions of the agency, all of the operations of the entire agency are subject to the nondiscrimination provisions of these regulations. In addition, “program or activity” or “program” also includes all of the operations of the entity of a State or local government that distributes the federal assistance to another State or local governmental agency or department and all of the operations of the State or local governmental entity to which the financial assistance is extended. See 42 U.S.C. 2000d-4a(1); S. Rep. No. 100-64, at 16, reprinted in 1988 U.S.C.C.A.N. at 18.

Under the second portion of the definition of “program or activity,” when covered educational institutions receive federal financial assistance, all of their operations are subject to the nondiscrimination requirements of the funding agency's regulations. See 42 U.S.C. 2000d-4a(2).

Under the third part of the definition, the degree of coverage of private entities, such as private corporations and partnerships, will vary depending on how the funding is provided, the principal purpose or objective of the entity, or how the entity is structured (e.g., physically separate offices or plants). Each of the operations of private businesses that are principally engaged in education, health care, housing, social services, or parks and recreation is considered a “program or activity” for purposes of these regulations. See 42 U.S.C. 2000d-4a(3)(A)(ii). S. Rep. No. 100-64 provides numerous other examples of the scope of coverage with regard to each category of recipient, and readers are referred to this material. S. Rep. No. 100-64, at 16-20, reprinted in 1988 U.S.C.C.A.N. at 19-21. In addition, if federal financial assistance is extended to a private entity “as a whole” and the private entity is not principally engaged in the business of education, health care, housing, social services, or parks and recreation, all of the private entity's operations at all of its locations would be covered. If the private entity receives general assistance, that is, assistance that is not designated for a particular purpose, that would be considered federal financial assistance to the private entity “as a whole.” In other instances where financial assistance is extended directly to a geographically separate facility of an entity described in the third part of this definition, then coverage would be limited to the geographically separate facility that receives the assistance. See 42 U.S.C. 2000d-4a(3).

Under the fourth part of the definition, if an entity of a type not already covered by one of the first three parts of the definition is established by two or more of the entities listed under the first three parts of the definition, then all of the operations of that new entity are covered. See 42 U.S.C. 2000d-4a(4).

The amendments incorporate the CRRA definition of “program or activity” and “program” into the agencies’ regulations. When Congress amended Title VI in the CRRA, it added definitions of both “program or activity” and “program” to the statute. Therefore, we are amending each agency's Title VI regulations to incorporate the definition of both “program or activity” and “program.” However, when Congress amended section 504 and the Age Discrimination Act in the CRRA, it added a definition of the term “program or activity,” but did not add a similar definition of the term “program.” Thus, we are amending the agencies’ section 504 and Age Discrimination Act regulations to incorporate a new definition of “program or activity” only.

As explained below, in order to conform with the CRRA definitions of “program or activity” and “program,” the regulatory changes also modify or delete some existing sections of the Agencies' regulations that have become superfluous or incorrect following enactment of the CRRA. These regulatory changes do not change the requirements of the existing regulations.

It is important to note that the changes do not in any way alter the requirement of the CRRA that a fund termination be limited to the particular programs “or part[s] thereof” that discriminate, or, as appropriate, to all of the programs that are infected by the discriminatory practices. See S. Rep. No. 100-64, at 20, reprinted in 1988 U.S.C.C.A.N. at 22 (“The [CRRA] defines ‘program' in the same manner as ‘program or activity,' and leaves intact the ‘or part thereof' pinpointing language.”).

Assurances

Several agencies' Title VI regulations included an assurance requirement that has created confusion with regard to the scope of “program or activity” under these regulations. In general, these assurances, which are legal agreements between the government and recipients of federal financial assistance, are designed to ensure that recipients of federal financial assistance comply with nondiscrimination laws and do not discriminate in their programs or activities. However, some agencies had assurance provisions that were confusing in light of the CRRA because they incorrectly stated that, in some circumstances, certain parts of a program will not be covered by civil rights laws. For example, DOJ's assurance provision, which is very similar to the corresponding assurance requirements in other agencies' Title VI regulations, provided in part: “[t]he assurance * * * shall be applicable to the entire institution unless the applicant establishes, to the satisfaction of the responsible Department official, that the practices in designated parts or programs of the institution * * * will in no way affect its practices in the program of the institution * * * for which Federal financial assistance is sought. * * *” 28 CFR 42.105(c)(2). In order to avoid any further confusion, the regulatory changes delete the above provision and similar provisions in the regulations of other agencies that incorrectly suggest that some parts of a program will not be covered under certain circumstances. These changes ensure that agency regulations reflect the broad scope of coverage of a program or activity that was contemplated by the CRRA.

Several federal agencies' Title VI regulations provided illustrative examples or applications that referred to the waiver language contained in the assurance provision. Because the waiver language in relevant assurance provisions has been deleted, similar language and references in illustrative applications and examples also have been deleted. These deletions do not affect the reach of the statutes or regulations.

Other References to “Program” and “Program or Activity”

In addition, we deleted references to “program” and “program or activity” in the regulations that did not conform to the broadened CRRA definition of “program” and “program or activity.” For example, in some instances, we substituted “Federal financial assistance” for “program” or “program or activity” where the phrase referred to federal financial assistance. In other instances, we substituted the phrase “aid, benefit, or service” if that was the intended meaning. We made revisions when the terms “program” and “program or activity” were used too narrowly, i.e., when they were used to indicate only a specific portion of a program that directly receives assistance. The nomenclature tables, which are charts designed to provide an easy method for viewing the words to be removed or replaced, show these conforming changes for each agency. In some instances, we changed the phrase “program and activity” to “program or activity” to conform the regulations to the term as defined in the CRRA. We did not modify the term “activity” when it appears separately from the phrase “program or activity” and is used in a manner unrelated to the CRRA phrase “program or activity.”

In promulgating its final regulations, the Department of Education (“ED”) used the plural terms “programs” and “programs or activities” to refer generally to multiple programs or activities operated by multiple recipients. In all other instances, however, ED used the singular terms “program” or “program or activity.” ED explained that it had decided to use the singular terms in all such instances to reflect the fact that virtually all of ED's recipients, such as institutions of higher education, have only one “program” or “program or activity” encompassing all of the recipient's operations. Noting that the singular also can be interpreted to encompass the plural, ED further explained that the use of the singular was appropriate even for those cases in which ED might fund a recipient that operates more than one program or activity (such as when an individual recipient corporation has multiple plants each of which is a separate program or activity). Given the greater range of recipient entities funded by the multiple agencies participating in this joint final rule and the likelihood that most of these agencies fund recipients that may operate more than one program or activity, the participating agencies have not endeavored to make any changes to these regulations solely related to the use of the singular or plural forms of these terms. As such, the regulations of these agencies may differ from ED's regulations in terms of the use of the singular or plural form of “program” or “program or activity,” but such differences should not be interpreted to imply any legal difference in the intended scope of coverage.

Although we have generally deleted all references to “program” and “program or activity” where such references do not conform to the CRRA, we have not done so when the regulation is merely copying statutory language. For example, the regulations for some agencies contain a compliance provision that requires the agency to report any order for fund termination to the congressional committee with jurisdiction over the “program” involved. In this case, the term “program” clearly refers to Federal financial assistance, but we did not replace the word because the copied statutory language itself uses the term “program.”

In other instances in which the term “program” is used in a manner inconsistent with the CRRA, we capitalized the word in order to distinguish it from the term defined by the CRRA. For example, we capitalized certain terms of art (e.g., “Historic Preservation Program,” “Individualized Education Program”) or names of types of federal financial assistance (e.g., “School Lunch Program”) to avoid confusion.

Other Conforming Changes

Other changes include modifications to some agencies' definition of “recipient.” A few agencies defined this term to include an entity that “benefits from” Federal financial assistance. Likewise, many agencies’ section 504 and Age Discrimination Act regulations used the phrase “receives or benefits from Federal financial assistance.” The phrase “or benefits from” in this context has been deleted as it is superfluous in light of the CRRA.

Because the changes are limited to those that are related to the CRRA definition of “program” and “program or activity,” we did not make additional technical corrections unless the provision was already subject to a CRRA-related change. Likewise, we did not make other technical corrections to outdated agency or office names, with one notable exception. Since the regulations for the Department of Energy require that age discrimination complaints be filed with a specific office, we have updated the regulations to reflect the new name of that office, thereby reducing confusion for individual complainants.

Although we are not amending the content of the Agencies' appendices, the headings and introductory text describing the content are amended to conform with the CRRA. Additional conforming changes to the body of the various agency appendices will be published in the Federal Register in a separate document at a later date.

Coordination With the Department of Education

The Department of Education (“ED”)—one of two agencies that were implicated in the Cureton decision and that have decided to promulgate separate rules to incorporate the CRRA's expanded definition of “program or activity” in their regulations—published its proposed rule on May 5, 2000, at 65 FR 26464, and its final rule on November 13, 2000, at 65 FR 68050. Among other modifications, ED's amendments contain several conforming changes to the following three subparts of its Section 504 regulations: (1) Preschool, Elementary, and Secondary Education; (2) Postsecondary Education; and (3) Health, Welfare, and Social Services.

Eight other Federal agencies have Section 504 regulations containing sections similar to all or a portion of the provisions in the above three subparts. Because we believe that it is particularly important to maintain consistency among Federal agencies with respect to these subparts, we have, with a few minor exceptions, followed ED's lead when amending these sections for the other eight agencies—Department of Agriculture, Department of Commerce, Department of Interior, Department of State, Department of Veterans Affairs, Agency for International Development, National Endowment for the Humanities, and National Science Foundation—that have similar regulations.

Coordination With the Department of Health and Human Services

The other agency implicated in the Cureton decision is the Department of Health and Human Services (HHS). Like ED, HHS promulgated its own separate NPRM, which was published on October 26, 2000 at 65 FR 64194. We coordinated with HHS, as we did with ED, to avoid any inconsistencies between this joint rule and those agencies' separate rules.

Differences Among Agencies

Some agencies lack regulations implementing section 504 or the Age Discrimination Act. In accordance with the limited scope of this regulation, we are not adding section 504 or Age Discrimination Act sections to agencies that lack such regulations. Outlined below are the agencies that do not have such implementing regulations, as well as agencies that have comprehensive rules implementing several statutes in one set of regulations or that follow the regulations of another Federal agency.

Agencies that do not have regulations implementing the Age Discrimination Act and, therefore, are amending only their regulations implementing Title VI and section 504 are: the Department of Agriculture, the Department of Labor, the Department of Defense, the Environmental Protection Agency, and the Department of Transportation. The Federal Emergency Management Agency (“FEMA”) does not have regulations applying section 504 to recipients of Federal financial assistance but, instead, operates in accordance with section 504 regulations developed by HHS. Therefore, FEMA is amending only its regulations implementing Title VI and the Age Discrimination Act. Likewise, the Small Business Administration does not have regulations applying section 504 to recipients of federal financial assistance and, therefore, is amending only its Title VI and Age Discrimination Act regulations.

In addition, the Corporation for National and Community Service (“the Corporation”) lacks regulations applying the Age Discrimination Act, Title VI, and section 504 to recipients of Federal financial assistance. Instead, the Corporation, which is the successor of ACTION, operates in accordance with Title VI and section 504 regulations promulgated by ACTION and is amending only those regulations. Similarly, the National Endowment for the Arts, the National Endowment for the Humanities (“NEH”), and the Institute of Museum and Library Services (“IMLS”), which together constitute the National Foundation on the Arts and the Humanities (“NFAH”), operate in accordance with Title VI regulations developed jointly by these three agencies and thus are amending their Title VI regulations jointly. However, NEA is separately amending its section 504 and Age Discrimination Act regulations, while NEH, which lacks an Age Discrimination Act regulation, is amending its section 504 regulation only. IMLS, which operates in accordance with NEH's section 504 regulations and does not have regulations implementing the Age Discrimination Act, is not issuing any separate amendments.

Analysis of Comments and Changes

In the NPRM, we invited comments on the proposed regulations. We received two comments. The first commenter wrote in support of the NPRM, stating that Title VI, section 504, and the Age Discrimination Act needed to be strengthened and be made uniform by adding the definitions of “program or activity.” The commenter also stated that the amendments would result in consistent and adequate enforcement of Title VI, section 504, and the Age Discrimination Act, and commended the Department of Justice and its “sister Federal agencies” for amending the regulations.

The second commenter advanced the view that the Agencies should not amend the regulations at this time because the commenter believed an amendment would be untimely due to a case then-pending before the United States Supreme Court (Alexander v. Sandoval, 532 U.S. 275 (2001)). Sandoval did not, however, address the focus of this rulemaking—revising the regulations to conform them to the added definition of “program or activity” or “program.” Instead, Sandoval addressed a different issue—whether there is an implied private right of action to enforce disparate-impact regulations promulgated under Section 602 of Title VI and concluded that there was not such a right. The Agencies have decided to proceed with the amendment of their regulations because we believe it is important to conform the regulations to the civil rights statutes as amended by the CRRA. We are, however, mindful of the Supreme Court's statements in Sandoval that call the validity of the Title VI disparate-impact regulations into question.²

² See Sandoval, 532 U.S. at 286 & 286 n. 6 (“[W]e assume for purposes of this decision that § 602 confers the authority to promulgate disparate-impact regulations''; “[w]e cannot help observing, however, how strange it is to say that disparate-impact regulations are ‘inspired by, at the service of, and inseparably intertwined with’ § 601 * * * when § 601 permits the very behavior that the regulations forbid.”).

In addition, in consultation with the Department of Justice, the Agencies have reviewed the regulations since publication of the NPRM and have made minor editorial and technical changes.

Applicable Executive Orders and Regulatory Certifications

Executive Order 12067

These conforming changes have been reviewed by the Equal Employment Opportunity Commission pursuant to Executive Order 12067.

Executive Order 12250

These conforming changes to the Title VI and section 504 regulations have been reviewed and approved by the Attorney General pursuant to Executive Order 12250.

Executive Order 12866

These regulations have been drafted and reviewed in accordance with Executive Order 12866, “Regulatory Planning and Review”, Section 1(b), Principles of Regulation. The Department of Justice has determined that this rule is not a “significant regulatory action” under Executive Order 12866, Section 3(f), and accordingly this rule has not been reviewed by the Office of Management and Budget. Under the terms of the order we have assessed the potential costs and benefits of this regulatory action.

In assessing the potential costs and benefits—both quantitative and qualitative—of these final regulations, we have determined that there probably will be no cost impacts because these final regulations merely clarify longstanding policy of the Agencies and do not change the Agencies' practices in addressing issues of discrimination.

We also have determined that this regulatory action would not unduly interfere with State, local, and tribal governments in the exercise of their governmental functions.

We summarized the potential costs and benefits of these final regulations in the preamble to the joint NPRM (65 FR 76460).

Age Discrimination Act of 1975

The Age Discrimination Act of 1975 and the Department of Health and Human Services' (“HHS”) general, government-wide implementing regulations give the Secretary of HHS the authority to review changes to the Age Discrimination Act regulations of federal agencies. This authority has been delegated to the Office for Civil Rights (“OCR”), which has reviewed and approved these conforming changes.

Small Business Regulatory Enforcement Fairness Act of 1996

It has been determined that this rule is not a major rule as defined by the Small Business Regulatory Enforcement Fairness Act of 1996, 5 U.S.C. 804. This rule will not result in an annual effect on the economy of $100 million or more; a major increase in costs or prices; or significant adverse effects on competition, employment, investment, productivity, innovation, or on the ability of United States-based companies to compete with foreign-based companies in domestic and export markets.

All recipients of federal funding have been bound by these standards of liability since the passage of the CRRA, when the Agencies reinstated their broad interpretation of the terms “program or activity” and “program” and applied these regulations on an institution-wide basis without changing the language of the regulations. The joint rule merely makes the regulations track the statutory language of the CRRA, both for disparate impact and disparate treatment forms of discrimination. These regulations implement statutory amendments and longstanding agency policy.

Unfunded Mandates Reform Act of 1995

The Unfunded Mandate Reform Act of 1995, Public Law 104-4, 109 Stat. 48 (1995), requires agencies to prepare several analytic statements before proposing any rule that may result in annual expenditures of $100 million by State, local, Indian tribal governments or the private sector. See 2 U.S.C. 1532.

These amendments make technical changes to existing regulations that enforce statutory prohibitions on discrimination on the basis of race, color, national origin, age, or disability. Therefore, these amendments will not result in the expenditure by State, local, and tribal governments, in the aggregate, or by the private sector, of $100 million or more in any one year, and they will not significantly or uniquely affect small governments. The participating agencies certify that no actions were deemed necessary under the Unfunded Mandate Reform Act of 1995.

Regulatory Flexibility Act

The Agencies, in accordance with the Regulatory Flexibility Act, 5 U.S.C. 605(b), have reviewed these regulations and certify that these regulations will not have a significant economic impact on a substantial number of small entities, in large part because these regulations do not impose any new substantive obligations on ederal funding recipients. All recipients of Federal funding have been bound by these standards of liability since the passage of the CRRA, when the Agencies reinstated their broad interpretation of the terms “program or activity” and “program” and applied these regulations on an institution-wide basis without changing the language of the regulations. The joint rule merely makes the regulations track the statutory language of the CRRA, both for disparate impact and disparate treatment forms of discrimination. These regulations implement statutory amendments and longstanding agency policy.

Paperwork Reduction Act

The Agencies certify that this rule will not impose additional reporting or recordkeeping requirements under the Paperwork Reduction Act of 1995, 44 U.S.C. 3501 et seq.

Executive Order 13132

This rule will not have substantial direct effects on the States, on the relationship between the national government and the States, or on the distribution of power and responsibilities among the various levels of government. The rule does not subject federal funding recipients to new obligations. The regulations amend and clarify existing regulations that are required by statute pursuant to Title VI of the Civil Rights Act of 1964, section 504 of the Rehabilitation Act of 1973, and the Age Discrimination Act of 1975. Therefore, in accordance with section 6 of Executive Order 13132, the Agencies have determined that these amendments do not have sufficient federalism implications to warrant the preparation of a federalism summary impact statement.

List of Subjects

7 CFR Part 15

Aged, Civil rights, Religious discrimination, Sex discrimination.

7 CFR Part 15b

Civil rights, Equal employment opportunity, Grant programs—education, Individuals with disabilities.

10 CFR Part 4

Administrative practice and procedure, Aged, Civil rights, Equal employment opportunity, Federal buildings and facilities, Individuals with disabilities, Reporting and recordkeeping requirements, Sex discrimination.

10 CFR Part 1040

Administrative practice and procedure, Aged, Civil rights, Equal employment opportunity, Individuals with disabilities, Sex discrimination.

13 CFR Part 112

Civil rights, Reporting and recordkeeping requirements, Small businesses.

13 CFR Part 117

Aged, Civil rights, Reporting and recordkeeping requirements.

14 CFR Part 1250

Civil rights.

14 CFR Part 1251

Administrative practice and procedure, Civil rights, Equal employment opportunity, Federal buildings and facilities, Individuals with disabilities.

14 CFR Part 1252

Aged, Civil rights.

15 CFR Part 8

Civil rights.

15 CFR Part 8b

Civil rights, Equal educational opportunity, Equal employment opportunity, Individuals with disabilities, Reporting and recordkeeping requirements.

15 CFR Part 20

Administrative practice and procedure, Aged, Civil rights.

18 CFR Part 1302

Civil rights, Reporting and recordkeeping requirements.

18 CFR Part 1307

Administrative practice and procedure, Civil rights, Individuals with disabilities.

18 CFR Part 1309

Aged, Civil rights.

22 CFR Part 141

Civil rights.

22 CFR Part 142

Civil rights, Equal educational opportunity, Equal employment opportunity, Individuals with disabilities.

22 CFR Part 143

Aged, Civil rights.

22 CFR Part 209

Civil rights.

22 CFR Part 217

Civil rights, Equal educational opportunity, Equal employment opportunity, Individuals with disabilities.

22 CFR Part 218

Aged, Civil rights.

28 CFR Part 42

Administrative practice and procedure, Aged, Civil rights, Equal employment opportunity, Grant programs, Individuals with disabilities, Reporting and recordkeeping requirements, Sex discrimination.

29 CFR Part 31

Civil rights, Reporting and recordkeeping requirements.

29 CFR Part 32

Civil rights, Equal employment opportunity, Individuals with disabilities, Reporting and recordkeeping requirements.

38 CFR Part 18

Aged, Civil rights, Equal educational opportunity, Equal employment opportunity, Individuals with disabilities, Reporting and recordkeeping requirements, Veterans.

40 CFR Part 7

Civil rights, Equal employment opportunity, Individuals with disabilities, Reporting and recordkeeping requirements, Sex discrimination.

41 CFR Part 101-6

Civil rights, Government property management.

41 CFR Part 101-8

Administrative practice and procedure, Civil rights, Government property management, Individuals with disabilities, Reporting and recordkeeping requirements.

43 CFR Part 17

Administrative practice and procedure, Aged, Civil rights, Equal employment opportunity, Federal buildings and facilities, Individuals with disabilities.

44 CFR Part 7

Administrative practice and procedure, Aged, Civil rights, Reporting and recordkeeping requirements.

45 CFR Part 605

Civil rights, Equal educational opportunity, Equal employment opportunity, Individuals with disabilities.

45 CFR Part 611

Civil rights, Reporting and recordkeeping requirements.

45 CFR Part 617

Administrative practice and procedure, Aged, Civil rights.

45 CFR Part 1110

Civil rights.

45 CFR Part 1151

Civil rights, Equal employment opportunity, Individuals with disabilities.

45 CFR Part 1156

Administrative practice and procedure, Aged, Civil rights, Grant programs, Investigations, Reporting and recordkeeping requirements.

45 CFR Part 1170

Civil rights, Equal educational opportunity, Equal employment opportunity, Individuals with disabilities.

45 CFR Part 1203

Civil rights, Reporting and recordkeeping requirements.

45 CFR Part 1232

Civil rights, Grant programs—social programs, Individuals with disabilities.

49 CFR Part 21

Civil rights, Reporting and recordkeeping requriements.

49 CFR Part 27

Administrative practice and procedure, Airports, Civil rights, Highways and roads, Individuals with disabilities, Mass transportation, Railroads, Reporting and recordkeeping requirements.

Adoption of Joint Rule

The agency adoptions of this joint rule are set forth below:

DEPARTMENT OF AGRICULTURE

7 CFR Subtitle A

RIN 0566-AB78

Authority and Issuance

For the reasons set forth in the joint preamble, USDA amends 7 CFR subtitle A, parts 15 and 15b as set forth below:

PART 15—NONDISCRIMINATION

1. The authority citation for part 15 continues to read as follows:

Authority: 5 U.S.C. 301; 29 U.S.C. 794.

2. Section 15.2 is amended by revising paragraph (k) to read as follows:

§ 15.2 Definitions.

* * * * *

(k) Program or activity and program mean all of the operations of any entity described in paragraphs (k)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (k)(1), (2), or (3) of this section.

* * * * *

3. In § 15.3, the headings for paragraphs (d)(1) through (d)(10) are revised to read as follows:

§ 15.3 Discrimination prohibited.

* * * * *

(d) * * *

(1) Cooperative Agricultural Extension Program. * * *

(2) Rural Electrification and Rural Telephone Programs. * * *

(3) Direct Distribution Program. * * *

(4) National School Lunch Program. * * *

(5) Food Stamp Program. * * *

(6) Special Milk Program for Children. * * *

(7) Price Support Programs carried out through producer associations or cooperatives or through persons who are required to provide specified benefits to producers. * * *

(8) Forest Service Programs. * * *

(9) Farmers Home Administration Programs. * * *

(10) Cooperative State Research Programs. * * *

4. Section 15.4 is amended by revising paragraph (c) to read as follows:

§ 15.4 Assurances required.

* * * * *

(c) Assurances from institutions. The assurance required with respect to an institution of higher education, or any other institution, insofar as the assurance relates to the institution's practices with respect to admission or other treatment of individuals or to the opportunity to participate in the provision of services or other benefits to such individuals, shall be applicable to the entire institution.

* * * * *

5. Amend the appendix to subpart A of part 15 as follows:

a. In the heading, by removing the words “USDA-Assisted Programs” and adding, in their place, the words “Federal Financial Assistance From USDA”;

b. In the introductory text, by removing the word “Programs” and adding, in its place, the words “The types of Federal financial assistance”; and by removing the words “in which Federal financial assistance is rendered”; and

c. In the chart, by removing the column heading “Program” and adding, in its place, the column heading “Type of Federal Financial Assistance”.

6. In the table below, for each section indicated in the left column, remove the text shown in the middle column, and add the text shown in the right column:

Section | Remove | Add
15.1(b)(3) | under any such program
15.2(e) | for any program
15.2(e) | under any such program
15.2(f) | for the purpose of carrying out a program
15.3(b)(3) | activities or programs | programs or activities
15.3(d), introductory text, first sentence | programs and activities | types of Federal financial assistance
15.3(d), introductory text, third sentence | program | type of Federal financial assistance
15.3(d), introductory text, third sentence | it | a program
15.3(d), introductory text, last sentence | listed program | listed type of Federal financial assistance
15.3(d)(1)(ii) | activity of | activity funded by
15.3(d)(3)(i) | direct distribution program | Direct Distribution Program
15.3(d)(3)(iii) | program | Program
15.3(d)(4)(i) | program | Program
15.3(d)(4)(ii) | program | Program
15.3(d)(5)(i) | program | Program
15.3(d)(6)(i) | program | Program
15.3(d)(6)(iv) | program | Program
15.3(d)(7)(v) | price support program | Price Support Program
15.3(d)(10)(ii) | cooperative research program | Cooperative Research Program
15.4(a)(1), first sentence | to carry out a program
15.4(a)(1), first sentence | except a program | except an application
15.4(b) | to carry out its program for or activity involving
15.5(a), second sentence | programs | Federal financial assistance
15.5(a), second sentence | program
15.5(b), second sentence | of any program under | in
15.5(d) | program under | program for Federal statutes, authorities, or other means by which Federal financial assistance is extended and
15.9(e), first sentence | programs
15.10(f) | under the program involved | to which this regulation applies
15.10(f) | assistance will | assistance to which this regulation applies will
15.10(f) | under such program
15.12(a), introductory text, first sentence | under such program

PART 15b—NONDISCRIMINATION ON THE BASIS OF HANDICAP IN PROGRAMS OR ACTIVITIES RECEIVING FEDERAL FINANCIAL ASSISTANCE

7. The heading for part 15b is revised to read as set forth above.

8. The authority citation for part 15b continues to read as follows:

Authority: 29 U.S.C. 794.

9. Section 15b.3 is amended by revising paragraph (p) and adding a new paragraph (s) to read as follows:

§ 15b.3 Definitions.

* * * * *

(p) For purposes of § 15b.18(d), Historic Preservation Programs are those that receive Federal financial assistance that has preservation of historic properties as a primary purpose.

* * * * *

(s) Program or activity means all of the operations of any entity described in paragraphs (s)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (s)(1), (2), or (3) of this section.

§ 15b.4 [Amended]

10. In § 15b.4, the heading of paragraph (c) is amended by removing the word “Programs” and adding, in its place, the words “Aid, benefits, or services”.

11. The heading for subpart C is revised to read as follows:

Subpart C—Accessibility

12. Section 15b.18 is amended by revising the heading and first sentence of paragraph (a), the heading of paragraph (e), and the first sentence of paragraph (e)(1) introductory text to read as follows:

§ 15b.18 Existing facilities.

(a) Accessibility. A recipient shall operate each assisted program or activity so that when each part is viewed in its entirety it is readily accessible to and usable by qualified handicapped persons. * * *

* * * * *

(e) Historic Preservation Programs; application for waiver of accessibility requirements. (1) A recipient shall operate each assisted program or activity involving Historic Preservation Programs so that when each part is viewed in its entirety it is readily accessible to and usable by handicapped persons. * * *

* * * * *

§ 15b.27 [Amended]

13. Section 15b.27 is amended by removing from the heading of paragraph (b) the words “Program delivery” and adding, in their place, the word “Delivery”, and by removing from the heading of paragraph (c) the words “Program materials” and adding, in their place, the word “Materials”.

§ 15b.28 [Amended]

14. The heading for § 15b.28 is amended by removing the word “programs”.

15. The heading for subpart F is revised to read as follows:

Subpart F—Other Aid, Benefits, or Services

Appendix A to Part 15b [Amended]

16. Amend appendix A to part 15b as follows:

a. In the heading, by removing the words “USDA-Assisted Programs” and adding, in their place, the words “Federal Financial Assistance From USDA”;

b. In the introductory text, by removing the word “Programs” and adding, in its place, the words “The types of Federal financial assistance”; and by removing the words “in which Federal financial assistance is rendered”; and

c. In the chart, by removing the column heading “Program” and adding, in its place, the column heading “Type of Federal Financial Assistance”.

17. In the table below, for each section indicated in the left column, remove the text shown in the middle column and add the text shown in the right column:

Section | Remove | Add
15b.2, first sentence | programs and activities | programs or activities
15b.2, last sentence | tailored to specific programs | more specifically tailored
15b.4(b)(1)(v) | program | program or activity
15b.4(b)(3) | programs or activities | aid, benefits, or services
15b.4(b)(4)(ii) | program | program or activity
15b.4(b)(5)(i) | or benefits from
15b.4(b)(6) | or benefiting from
15b.4(c) | the benefits of a program | aid, benefits, or services
15b.4(c) | from a program | from aid, benefits, or services
15b.5(a), first sentence | for a program or activity
15b.5(a), first sentence | the program will | the program or activity will
15b.7(a), second sentence | programs and activities | programs or activities
15b.8(a)(3)(i) | program | program or activity
15b.8(a)(3)(ii) | program | program or activity
15b.8(a)(3)(iii) | program | program or activity
15b.10 | programs | programs or activities
15b.11 | programs and activities | programs or activities
15b.12(a)(3), last sentence | apprenticeship programs | apprenticeships
15b.12(b)(8) | social | those that are social
15b.12(b)(8) | programs
15b.13(a) | program | program or activity
15b.13(c), introductory text | programs | programs or activities
15b.13(c)(1) | program | program or activity
15b.16 | programs and activities | programs or activities
15b.18(b), last sentence | offer programs and activities to | serve
15b.18(b), last sentence | to obtain the full benefits of the program
15b.18(d) | program accessibility | accessibility
15b.18(d) | the program | the program or activity
15b.18(e)(1), introductory text, last sentence | program
15b.18(e)(1)(iv), first sentence | program
15b.18(e)(1)(iv), last sentence | historic preservation program | Historic Preservation Program
15b.18(e)(1)(iv), first sentence | program accessibility | accessibility
15b.18(e)(2), introductory text, first sentence | program
15b.18(e)(2), introductory text, last sentence | program
15b.18(e)(2)(iii) | program | program or activity
15b.18(g)(3) | program accessibility | ccessibility under paragraph (a) of this section
15b.20 | programs and activities | programs or activities
15b.21, introductory text | program | program or activity
15b.22(a) | program | program or activity
15b.22(b)(2) | individualized education program | Individualized Education Program
15b.22(b)(3), first sentence | in
15b.22(b)(3), first sentence | to a program | for aid, benefits, or services
15b.22(b)(3), first sentence | the one | those
15b.22(b)(3), first sentence | operates | operates or provides
15b.22(c)(1), second sentence | to a program | for aid, benefits, or services
15b.22(c)(1), second sentence | operated | operated or provided
15b.22(c)(1), second sentence | the program | aid, benefits, or services
15b.22(c)(2) | person in | person
15b.22(c)(2) | to a program | for aid, benefits, or services
15b.22(c)(2) | not operated | not operated or provided
15b.22(c)(2) | the program | aid, benefits, or services
15b.22(c)(3) | placement in
15b.22(c)(3) | program | placement
15b.22(c)(4), last sentence | such a program | a free appropriate education
15b.24(a) | program shall | program or activity shall
15b.24(a) | a regular or special education program | regular or special education
15b.25, first sentence | operates a | provides
15b.25, first sentence | education program | education
15b.26(c)(1), first sentence | programs and activities | aid, benefits, or services
15b.26(c)(1), last sentence | in these activities
15b.27(a), first sentence | operates an | provides
15b.27(a), first sentence | program or activity receiving assistance from this Department
15b.27(a), first sentence | from the program or activity
15b.27(a), last sentence | under the program or activity
15b.27(b)(1), first sentence | program services | aid, benefits, or services
15b.27(b)(2), first sentence | program services | aid, benefits, or services
15b.27(b)(2), second sentence | program benefits | aid, benefits, or services
15b.27(b)(3), first sentence | program services | aid, benefits, or services
15b.27(b)(3), second sentence | program benefits | aid, benefits, or services
15b.27(c), first sentence | program
15b.28(a), first sentence | operates a | provides
15b.28(a), first sentence | program receiving assistance from this Department
15b.28(a), first sentence | from such program
15b.29 | programs and activities | programs or activities
15b.31(a) | program or activity | aid, benefits, or services
15b.31(d) | programs and activities | programs or activities
15b.32(a), second sentence | program or
15b.32(c) | in its program
15b.32(d)(1) | under the education program or activity operated by the recipient
15b.35(a)(1), first sentence | programs and activities | aid, benefits, or services
15b.36 | programs and activities | aid, benefits, or services
15b.39, first sentence | activity for | activity that provides aid, benefits, or services for
15b.39, first sentence | program, or activity | program or activity
15b.40(a), first sentence | operate | provide
15b.40(a), first sentence | service programs assisted by this Department | services
15b.41(a) | a multi-family rental housing program | multi-family rental housing
15b.41(b)(2) | program
15b.41(c), first sentence | program
15b.41(c), last sentence | program

Dated: May 1, 2001.
David Winningham,
Acting Director, Office of Civil Rights, Department of Agriculture.

NUCLEAR REGULATORY COMMISSION

10 CFR Chapter I

RIN 3130-AG65

Authority and Issuance

For the reasons set forth in the joint preamble, NRC amends 10 CFR chapter I, part 4 as set forth below:

PART 4—NONDISCRIMINATION IN FEDERALLY ASSISTED PROGRAMS OR ACTIVITIES RECEIVING FEDERAL FINANCIAL ASSISTANCE FROM THE COMMISSION

1. The heading for part 4 is revised as set forth above.

2. The authority citation for part 4 is revised to read as follows:

Authority: Sec. 161, 68 Stat. 948, as amended (42 U.S.C. 2201); sec. 274, 73 Stat. 688, as amended (42 U.S.C. 2021); sec. 201, 88 Stat. 1242, as amended (42 U.S.C. 5841).

Subpart A also issued under secs. 602-605, Pub. L. 88-352, 78 Stat. 252, 253 (42 U.S.C. 2000d-2000d-7); sec. 401, 88 Stat. 1254 (42 U.S.C. 5891).

Subpart B also issued under sec. 504, Pub. L. 93-112, 87 Stat. 394 (29 U.S.C. 706); sec. 119, Pub. L. 95-602, 92 Stat. 2984 (29 U.S.C. 794); sec. 122, Pub. L. 95-602, 92 Stat. 2984 (29 U.S.C. 706(6)).

Subpart C also issued under Title III of Pub. L. 94-135, 89 Stat. 728, as amended (42 U.S.C. 6101).

Subpart E also issued under 29 U.S.C. 794.

3. Section 4.4 is amended by revising paragraph (g) to read as follows:

§ 4.4 Definitions.

* * * * *

(g) Program or activity and program mean all of the operations of any entity described in paragraphs (g)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

4. In the table below, for each section indicated in the left column, remove the text shown in the middle column and add the text shown in the right column:

Section | Remove | Add
4.3, introductory text, second sentence | programs | types of Federal financial assistance
4.3, introductory text, third sentence | under any program or activity
4.3, introductory text, fourth sentence | a program | a type of Federal financial assistance
4.3, introductory text, fourth sentence | the program | a program or activity
4.4(f) | for the purpose of carrying out a program
4.4(h) | for any program
4.4(h) | under any such program

Subpart A—Regulations Implementing Title VI of the Civil Rights Act of 1964 and Title IV of the Energy Reorganization Act of 1974

5. The heading of § 4.22 is revised to read as follows:

§ 4.22 Continuing Federal financial assistance.

* * * * *

6. Section 4.24 is amended by revising paragraph (b) to read as follows:

§ 4.24 Assurances from institutions.

* * * * *

(b) The assurance required with respect to an institution of higher education, hospital, or any other institution, insofar as the assurance relates to the institution's practices with respect to admission or other treatment of individuals as students, patients, or clients of the institution or to the opportunity to participate in the provision of services or other benefits to such individuals, shall be applicable to the entire institution.

7. In the table below, for each section indicated in the left column, remove the text shown in the middle column and add the text shown in the right column:

Section | Remove | Add
4.12(a), introductory text | under any program
4.13(a), first sentence | a program of | the
4.13(a), first sentence | assistance | assistance to a program
4.13(a), second sentence | such programs | such Federal financial assistance
4.13(a), second sentence | fellowship programs | fellowships
4.21(a), first sentence | under a program
4.21(a), first sentence | except a program | except an application
4.21(a), fifth sentence | for each program
4.21(a), fifth sentence | in the program
4.21(b), third sentence | program | statute
4.22 | to carry out a program involving | for
4.32(b) | of any program under | in
4.34 | program under which | program for which
4.51(a)(4) | under the program involved
4.64, first sentence | programs | Federal statutes, authorities, or other means by which Federal financial assistance is extended and
4.64, last sentence | programs subject to this subpart are | this regulation is
4.74, first sentence | under the program involved | to which this regulation applies
4.74, first sentence | assistance will | assistance to which this regulation applies will
4.74, first sentence | under such program
4.91, introductory text, first sentence | under such program

Subpart B—Regulations Implementing Section 504 of the Rehabilitation Act of 1973, as Amended

8. The heading of § 4.126 is revised to read as follows:

§ 4.126 General requirement concerning accessibility.

* * * * *

9. Section 4.127 is amended by revising the heading and first sentence of paragraph (a) to read as follows:

§ 4.127 Existing facilities.

(a) Accessibility. A recipient shall operate each program or activity so that when each part is viewed in its entirety it is readily accessible to and usable by handicapped persons. * * *

* * * * *

10. In the table below, for each section indicated in the left column, remove the text shown in the middle column and add the text shown in the right column:

Section | Remove | Add
4.121(a) | or benefits from
4.121(b)(1)(v) | program | program or activity
4.121(b)(2) | programs or activities | aid, benefits, or services
4.121(b)(3)(ii) | program | program or activity
4.121(b)(4)(i) | or benefits from
4.121(c) | the benefits of a program | aid, benefits, or services
4.121(c) | a program | aid, benefits, or services
4.121(d) | programs and activities | programs or activities
4.122(a) | or benefits from
4.122(c)(8) | social | those that are social
4.122(c)(8) | programs
4.122(d), last sentence | apprenticeship programs | apprenticeships
4.123(a) | program | program or activity
4.123(c), introductory text | program | program or activity
4.123(c)(1) | program | program or activity
4.126 | or benefits from
4.127(b), last sentence | offer programs and activities to | serve
4.127(d)(3) | program accessibility | accessibility under paragraph (a) of this section
4.231(a), first sentence | for a program or activity
4.231(a), first sentence | the program | the program or activity
4.231(c)(3)(i) | program | program or activity
4.231(c)(3)(ii) | program | program or activity
4.232(a), second sentence | programs and activities | programs or activities

Subpart C—Regulations Implementing the Age Discrimination Act of 1975, as Amended

11. In the table below, for each section indicated in the left column, remove the text shown in the middle column and add the text shown in the right column:

Section | Remove | Add
4.313, introductory text, first sentence | program of activity | program or activity
4.321, first sentence | programs and activities | programs or activities
4.321, second sentence | programs and activities | programs or activities
4.334(a)(2), last sentence | program
4.336(c)(2), first sentence | Federal
4.338(c) | program | program or activity
4.339(b)(2) | program or activity | Federal financial assistance
4.341(b) | programs | programs or activities
4.341(c) | programs | programs or activities
4.341(d) | programs | programs or activities

Dated: April 30, 2001.
William D. Travers,
Executive Director for Operations, Nuclear Regulatory Commission.

DEPARTMENT OF ENERGY

10 CFR Chapter X

RIN 1901-AA86

Authority and Issuance

For the reasons set forth in the joint preamble, DOE amends 10 CFR chapter X, part 1040 as set forth below:

PART 1040—NONDISCRIMINATION IN FEDERALLY ASSISTED PROGRAMS OR ACTIVITIES

1. The heading for part 1040 is revised to read as set forth above.

2. The authority citation for part 1040 is revised to read as follows:

Authority: 20 U.S.C. 1681-1686; 29 U.S.C. 794; 42 U.S.C. 2000d to 2000d-7, 3601-3631, 5891, 6101-6107, 7101 et seq.

Subpart A—General Provisions

3. Section 1040.3 is amended by revising paragraph (u) to read as follows:

§ 1040.3 Definitions—General.

* * * * *

(u) Program or activity and program mean all of the operations of any entity described in paragraphs (u)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (u)(1), (2), or (3) of this section.

* * * * *

4. Section 1040.4 is amended by revising paragraph (d) and the heading of paragraph (f) to read as follows:

§ 1040.4 Assurances required and preaward review.

* * * * *

(d) Assurances from government agencies. In the case of any application from any department, agency or office of any State or local government for Federal financial assistance for any specified purpose, the assurance required by this section is to extend to any other department, agency, or office of the same governmental unit.

* * * * *

(f) Continuing Federal financial assistance. * * *

* * * * *

5. In the table below, for each section indicated in the left column, remove the text shown in the middle column and add the text shown in the right column:

Section | Remove | Add
1040.1, first sentence | the program or activity | the Federal financial assistance
1040.1, first sentence | program services | services
1040.2(a), second sentence | Programs | Types of Federal financial assistance
1040.2(a), fourth sentence | under any program or activity
1040.2(a), last sentence | a program | a type of Federal financial assistance
1040.2(a), last sentence | the program | that a program or activity
1040.3(a) | program | aid, benefit, service
1040.3(t) | for the purpose of carrying out a program
1040.4(a), first sentence | for a program or activity
1040.4(f), introductory text | administering a program which receives | applying for
1040.4(f)(1) | program | program or activity
1040.5(b), first sentence | or programs | or activity
1040.5(b), second sentence | programs | programs or activities
1040.5(b), last sentence | broadcast program | broadcast
1040.5(b), last sentence | the program | the program or activity
1040.5(b), last sentence | opportunity program | opportunity program or activity
1040.5(c), first sentence | program | program or activity
1040.6(a) second sentence | programs and activities | programs or activities
1040.7(b) | a program that will | to

Subpart B—Title VI of the Civil Rights Act of 1964; Section 16 of the Federal Energy Administration Act of 1974, as Amended; and Section 401 of the Energy Reorganization Act of 1974

6. Section 1040.13 is amended by revising paragraph (e) to read as follows:

§ 1040.13 Discrimination prohibited.

* * * * *

(e) For the purpose of this section, the disposition, services, financial aid, or benefits provided under a program receiving Federal financial assistance include all portions of the recipient's program or activity, including facilities, equipment, or property provided with the aid of Federal financial assistance.

* * * * *

7. In the table below, for each section indicated in the left column, remove the text shown in the middle column and add the text shown in the right column:

Section | Remove | Add
1040.11(b), first sentence | administering | administering or
1040.11(b), first sentence | or substantially benefiting from
1040.12(b), first sentence | programs and activities | programs or activities
1040.13(b), introductory text | under any program
1040.13(c) | program objectives | objectives of the program
1040.13(g), first sentence | from programs | from benefits
1040.13(g), last sentence | the benefits of a program | benefits
1040.13(g), last sentence | programs funded | Federal financial assistance provided
1040.14(a)(1), introductory text, first sentence | mobility programs | mobility projects

Subpart D—Nondiscrimination on the Basis of Handicap—Section 504 of the Rehabilitation Act of 1973, as Amended

§ 1040.63 [Amended]

8. In § 1040.63, the heading of paragraph (c) is amended by removing the word “Programs,” and adding, in its place, the words “Aid, benefits, or services”.

9. The undesignated center heading immediately preceding § 1040.71 is amended by removing the word “Program”.

10. Section 1040.72 is amended by revising the heading and first sentence of paragraph (a) to read as follows:

§ 1040.72 Existing facilities.

(a) Accessibility. A recipient shall operate any program or activity to which this subpart applies so that when each part is viewed in its entirety it is readily accessible and usable by handicapped persons. * * *

* * * * *

11. Section 1040.74 is amended by revising the section heading, the heading of paragraph (a), the first sentence of paragraph (a) introductory text and the headings of paragraphs (a)(1), (a)(2), and (a)(3) to read as follows:

§ 1040.74 Accessibility in historic properties.

(a) Methods to accomplish accessibility. Recipients shall operate each program or activity involving historic properties so that when each part is viewed in its entirety it is readily accessible to and usable by handicapped persons. * * *

(1) Methods to accomplish accessibility without building alterations or structural changes. * * *

(2) Methods to accomplish accessibility resulting in building alterations. * * *

(3) Methods to accomplish accessibility resulting in structural changes. * * *

* * * * *

12. In the table below, for each section indicated in the left column, remove the text shown in the middle column and add the text shown in the right column:

Section | Remove | Add
1040.61(b) | or benefits from
1040.63(a) | or benefits from
1040.63(b)(1)(v) | program | program or activity
1040.63(b)(3) | programs or activities | aid, benefits, or services
1040.63(b)(4)(ii) | program | program or activity
1040.63(b)(6) | or benefiting from
1040.63(c) | the benefits of a program | aid, benefits, or services
1040.63(c) | from a program | from aid, benefits, or services
1040.63(d) | programs of activities | programs or activities
1040.64(c), first sentence | under any program to which | under any program or activity to which
1040.64(c), first sentence | assistance under any program for | assistance for
1040.66(a)(3), last sentence | apprenticeship programs | apprenticeships
1040.66(b)(8) | social | those that are social
1040.66(b)(8) | programs
1040.67(a) | program | program or activity
1040.67(c), introductory text | program | program or activity
1040.67(c)(1) | program | program or activity
1040.72(b), last sentence | offer programs and activities to | serve
1040.72(d)(3) | program accessibility | accessibility under § 1040.72(a)
1040.74(a), introductory text, second sentence | program
1040.74(a), introductory text, last sentence | program
1040.74(a)(1)(i) | programs | aid, benefits, or services
1040.74(a)(1)(iii) | programs or activities | aid, benefits, or services
1040.74(a)(1)(iv) | programs | aid, benefits, or services
1040.74(a)(2), first sentence | program
1040.74(a)(2), first sentence | Program
1040.74(a)(3), first sentence | program
1040.74(a)(3), first sentence | Program

Subpart E—Nondiscrimination on the Basis of Age—Age Discrimination Act of 1975, as Amended

13. The authority citation for subpart E is revised to read as follows:

Authority: Age Discrimination Act of 1975, as amended (42 U.S.C. 6101 et seq.); 45 CFR part 90.

Appendix A to Subpart E to Part 1040 [Amended]

14. Appendix A to subpart E to part 1040 is amended by removing the words “or program” from the sixth column heading.

15. In the table below, for each section indicated in the left column, remove the text shown in the middle column and add the text shown in the right column:

Section | Remove | Add
1040.81, last sentence | programs and activities | programs or activities
1040.82(a) | or benefits from
1040.83(i) | programs and activities | programs or activities
1040.88(a) | Office of Equal Opportunity (OEO) | Office of Civil Rights and Diversity
1040.88(c) | program | program or activity
1040.89-1, first sentence | program and activities | programs or activities
1040.89-5(a), third sentence | Office of Equal Opportunity (OEO) | Office of Civil Rights and Diversity
1040.89-5(a), last sentence | OEO | Office of Civil Rights and Diversity
1040.89-5(b), introductory text | OEO | Office of Civil Rights and Diversity
1040.89-5(c), first sentence | OEO | Office of Civil Rights and Diversity
1040.89-6(b), second sentence | OEO | Office of Civil Rights and Diversity
1040.89-6(c), second sentence | OEO | Office of Civil Rights and Diversity
1040.89-6(e) | OEO | Office of Civil Rights and Diversity
1040.89-7(a)(1) | OEO | Office of Civil Rights and Diversity
1040.89-7(a)(3) | OEO | Office of Civil Rights and Diversity
1040.89-7(b), first sentence | OEO | Office of Civil Rights and Diversity
1040.89-9(a), introductory text | Programs | Programs or Activities
1040.89-9(a)(1), first sentence | under the program or activity involved where | for a program activity in which
1040.89-9(c)(1) | OEO | Office of Civil Rights and Diversity
1040.89-9(c)(2), first sentence | Federal
1040.89-11 | OEO | Office of Civil Rights and Diversity
1040.89-12(b)(2) | program or activity | Federal financial assistance
1040.89-13(b), introductory text | OEO | Office of Civil Rights and Diversity

Dated: May 29, 2001.
Spencer Abraham,
Secretary, Department of Energy.

SMALL BUSINESS ADMINISTRATION

13 CFR Chapter I

RIN 3245-AE59

Authority and Issuance

For the reasons set forth in the joint preamble, SBA amends 13 CFR chapter I, parts 112 and 117 as set forth below:

PART 112—NONDISCRIMINATION IN FEDERALLY ASSISTED PROGRAMS OF SBA—EFFECTUATION OF TITLE VI OF THE CIVIL RIGHTS ACT OF 1964

1. The authority citation for part 112 continues to read as follows:

Authority: Sec. 602, 78 Stat. 252 (42 U.S.C. 2000d-1).

2. Section 112.2 is amended by adding paragraph (e) to read as follows:

§ 112.2 Application of this part.

* * * * *

(e) The terms program or activity and program mean all of the operations of any entity described in paragraphs (e)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (e)(1),(2), or (3) of this section.

Appendix A to Part 112 [Amended]

3. The chart in appendix A to part 112 is amended by removing the heading “Name of program” and adding, in its place, the heading “Name of Federal financial assistance'; by removing the heading “Financial Programs” and adding, in its place, the heading “Federal Financial Assistance Involving Grants of Funds”; and by removing the heading “Nonfinancial Programs” and adding, in its place, the heading “Other Federal Financial Assistance”.

4. The note immediately following appendix A to part 112 is amended by removing the word “programs” and adding, in its place, the words “types of Federal financial assistance”.

5. In the table below, for each section indicated in the left column, remove the text shown in the middle column and add the text shown in the right column:

Section | Remove | Add
112.2(a) | assistance under programs | Federal financial assistance
112.3(b)(3), first sentence | the program | a program
112.8, last sentence | for each program
112.8, last sentence | in the program

PART 117—NONDISCRIMINATION IN FEDERALLY ASSISTED PROGRAMS OR ACTIVITIES OF SBA—EFFECTUATION OF THE AGE DISCRIMINATION ACT OF 1975, AS AMENDED

6. The heading for part 117 is revised to read as set forth above.

7. The authority citation for part 117 continues to read as follows:

Authority: Age Discrimination Act of 1975, 42 U.S.C. 6101 et seq.

8. Section 117.2 is amended by revising paragraph (a) to read as follows:

§ 117.2 Application of this part.

(a) This part applies to all recipients of Federal financial assistance administered by the Small Business Administration, whether or not the specific type of Federal financial assistance administered is listed in appendix A.

* * * * *

9. Section 117.3 is amended by redesignating paragraphs (j) through (m) as paragraphs (k) through (n), and adding a new paragraph (j) to read as follows:

§ 117.3 Definitions.

* * * * *

(j) The term program or activity means all of the operations of any entity described in paragraphs (j)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (j)(1), (2), or (3) of this section.

* * * * *

Appendix A to Part 117 [Amended]

10. The chart in appendix A to part 117 is amended by removing the words “Name of program” and adding, in their place, the words “Type of Federal financial assistance”.

11. In the table below, for each section indicated in the left column, remove the text shown in the middle column and add the text shown in the right column:

Section | Remove | Add
117.1 | programs | programs or activities
117.3(j), first sentence | under any program
117.4(b)(2) | programs | programs or activities
117.5(b), first sentence | in a program
117.6(b) | business or program | program or activity
117.6(c) | program | program or activity
117.7, first sentence | under any program
117.7, last sentence | for each program,
117.7, last sentence | in the program
117.8(a), first sentence | programs and activities | programs or activities
117.8(c) | its program beneficiaries | the beneficiaries of its programs or activities
117.15(a)(3), first sentence | program
117.17(f) | under the programs involved | to which this regulation applies
117.17(f) | assistance will | assistance to which this regulation applies will
117.17(f) | under such program
117.19(a)(9) | program | program or activity
117.20, first sentence | programs | programs or activities

Dated: October 10, 2002.
Hector V. Barreto,
Administrator, Small Business Administration.

NATIONAL AERONAUTICS AND SPACE ADMINISTRATION

14 CFR Chapter V

RIN 2700-AC41

Authority and Issuance

For the reasons set forth in the joint preamble, NASA amends 14 CFR chapter V, parts 1250, 1251, and 1252 as set forth below:

PART 1250—NONDISCRIMINATION IN FEDERALLY-ASSISTED PROGRAMS OF NASA— EFFECTUATION OF TITLE VI OF THE CIVIL RIGHTS ACT OF 1964

1. The authority citation for part 1250 continues to read as follows:

Authority: Sec. 602, 78 Stat. 252, 42 U.S.C. 2000d-1; and the laws listed in appendix A to this part.

2. Section 1250.102 is amended by revising paragraph (h) to read as follows:

§ 1250.102 Definitions.

* * * * *

(h) Program or activity and program mean all of the operations of any entity described in paragraphs (h)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

* * * * *

3. Section 1250.103-4 is amended by revising paragraph (b) to read as follows:

§ 1250.103-4 Illustrative applications.

* * * * *

(b) In a research or training grant to a university for activities to be conducted in a graduate school, discrimination in the admission and treatment of students in the graduate school is prohibited and the prohibition extends to the entire university.

* * * * *

4. Section 1250.103-5 is amended by revising the heading to read as follows:

§ 1250.103-5 Special benefits.

* * * * *

5-6. Section 1250.104 is amended by revising paragraph (c)(2) and by removing paragraph (d)(2) and the paragraph designation (d)(1), to read as follows:

§ 1250.104 Assurances.

* * * * *

(c) * * *

(2) The assurances from such an applicant shall be applicable to the entire organization of the applicant.

* * * * *

7. In the table below, for each section indicated in the left column, remove the text shown in the middle column and add the text shown in the right column:

Section | Remove | Add
1250.101(a)(1), first sentence | federally-assisted programs and activities | types of Federal financial assistance
1250.101(a)(1), second sentence | program or activity | type of Federal assistance
1250.101(a)(1), second sentence | such program | a program
1250.101(a)(1), last sentence | programs | types of Federal financial assistance
1250.101(a)(2) | under any such program
1250.101(b)(2) | extended under any such program | extended
1250.101(b)(3) | beneficiary under any such program | beneficiary
1250.101(b)(5) | programs | types of Federal financial assistance
1250.101(b)(6) | programs | types of Federal financial assistance
1250.102(f) | for the purpose of carrying out a program
1250.102(i) | for any program
1250.102(i) | under any such program
1250.103-2(a), introductory text | under any program
1250.103-3(b) | programs | types of Federal financial assistance
1250.103-4(a) | programs | services
1250.103-5 | the benefits of a program | benefits
1250.104(a), first sentence | to carry out a program
1250.104(e), second sentence | under a program of | with
1250.104(e), last sentence | program | statute
1250.105(b), last sentence | of any program under | in
1250.105(d) | program under | program for
1250.108(e), first sentence | programs | Federal statutes, authorities, or other means by which Federal financial assistance is extended and
1250.109(f) | under the program involved | to which this regulation applies
1250.109(f) | assistance will | assistance to which this regulation applies will
1250.109(f) | under such program
1250.111(a), first sentence | under such program

PART 1251—NONDISCRIMINATION ON BASIS OF HANDICAP

8. The authority citation for part 1251 continues to read as follows:

Authority: 29 U.S.C. 794.

9. Section 1251.102 is amended by adding paragraph (k) to read as follows:

§ 1251.102 Definitions.

* * * * *

(k) Program or activity means all of the operations of any entity described in paragraphs (k)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (k) (1), (2), or (3) of this section.

§ 1251.103 [Amended]

10. In § 1251.103, the heading of paragraph (c) is amended by removing the word “Programs” and adding, in its place, the words “Aid, benefits, or services”.

11. The heading of subpart 1251.3 of part 1251 is revised to read as follows:

Subpart 1251.3—Accessibility

12. In § 1251.301, the heading and first sentence of paragraph (a) are revised to read as follows:

§ 1251.301 Existing facilities.

(a) Accessibility. A recipient shall operate each program or activity to which his part applies so that when each part is viewed in its entirety it is readily accessible to handicapped persons. * * *

* * * * *

13. In the table below, for each section indicated in the left column, remove the text shown in the middle column, and add the text shown in the right column:

Section | Remove | Add
1251.101 | or benefits from
1251.103(a) | or benefits from
1251.103(b)(1)(v) | program | program or activity
1251.103(b)(3) | program | program or activity
1251.103(b)(3) | or benefiting from
1251.103(b)(4) | programs or activities | aid, benefits, or services
1251.103(b)(5)(ii) | program | program or activity
1251.103(b)(6)(i) | or benefits from
1251.103(b)(7) | or benefiting from
1251.103(c) | the benefits of a program | aid, benefits, or services
1251.103(c) | from a program | from aid, benefits, or services
1251.104(a), first sentence | for a program or activity
1251.104(a), first sentence | the program | the program or activity
1251.105(a)(3)(i) | program | program or activity
1251.105(a)(3)(ii) | program | program or activity
1251.105(a)(3)(iii) | program | program or activity
1251.107(a), second sentence | programs and activities programs or activities
1251.200(a)(2) | programs | programs or activities
1251.200(a)(4), last sentence | apprenticeship programs apprenticeships
1251.200(b)(8) | social | those that are social
1251.200(b)(8) | programs
1251.200(d), last sentence | apprenticeship programs apprenticeships
1251.201(a) | program | program or activity
1251.201(c), introductory text | program | program or activity
1251.201(c)(1) | program | program or activity
1251.301(b), last sentence | offer programs and activities to | serve
1251.301(d)(3) | program accessibility | accessibility under paragraph (a) of this section

PART 1252—NONDISCRIMINATION ON THE BASIS OF AGE IN PROGRAMS OR ACTIVITIES RECEIVING FEDERAL FINANCIAL ASSISTANCE

14. The heading for part 1252 is revised to read as set forth above.

15. The authority citation for part 1252 continues to read as follows:

Authority: Age Discrimination Act of 1975, as amended, 42 U.S.C. 6101 et seq. (45 CFR part 90).

16. Section 1252.102 is amended by revising the heading to read as follows:

§ 1252.102 To what programs or activities do these regulations apply?

* * * * *

17. Section 1252.103 is amended by adding paragraph (n) to read as follows:

§ 1252.103 Definitions.

* * * * *

(n) Program or activity means all of the operations of any entity described in paragraphs (n)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (n)(1), (2), or (3) of this section.

18. In the table below, for each section indicated in the left column, remove the text shown in the middle column and add the text shown in the right column:

Section | Remove | Add
1252.100, last sentence | programs and activities | programs or activities
1252.102(a) | or benefits from
1252.203 | program | program or activity
1252.300 | programs and activities | programs or activities
1252.403(a)(2), last sentence | program
1252.405(b), first sentence | program activity | program or activity
1252.405(c)(2), first sentence | Federal
1252.409(b)(2) | program or activity | Federal financial assistance

Dated: September 10, 2002.
Sean O'Keefe,
Administrator, National Aeronautics and Space Administration.

DEPARTMENT OF COMMERCE

15 CFR Subtitle A

RIN 0690-AA30

Authority and Issuance

For the reasons set forth in the joint preamble, DOC amends 15 CFR subtitle A, parts 8, 8b, and 20 as set forth below:

PART 8—NONDISCRIMINATION IN FEDERALLY-ASSISTED PROGRAMS OF THE DEPARTMENT OF COMMERCE—EFFECTUATION OF TITLE VI OF THE CIVIL RIGHTS ACT OF 1964

1. The authority citation for part 8 continues to read as follows:

Authority: Sec. 602, Civil Rights Act of 1964 (42 U.S.C. 2000d-1).

2. Section 8.3 is amended by revising paragraph (g) to read as follows:

§ 8.3 Definitions.

* * * * *

(g) Program or activity and program mean all of the operations of any entity described in paragraphs (g)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

3. Section 8.5 is amended by revising paragraph (b)(10) to read as follows:

§ 8.5 Nondiscrimination clause.

* * * * *

(b) * * *

(10) In the case where any assurances are required from an academic, a medical care, detention or correctional, or any other institution or facility, insofar as the assurances relate to the institution's practices with respect to the admission, care, or other treatment of persons by the institution or with respect to the opportunity of persons to participate in the receiving or providing of services, treatment, or benefits, such assurances shall be applicable to the entire institution or facility.

* * * * *

4. Section 8.6 is amended by revising the heading of paragraph (a) to read as follows:

§ 8.6 Applicability of this part to Department assisted programs.

* * * * *

(a) Assistance to support economic development. * * *

* * * * *

Appendix A to Part 8 [Amended]

5. The heading for appendix A to part 8 is amended by removing the word “Programs” and adding, in its place, the words “Federal Financial Assistance”.

6. In the table below, for each section indicated in the left column, remove the text shown in the middle column and add the text shown in the right column:

Section | Remove | Add
8.2(a), first sentence | federally assisted programs | types of Federal financial assistance
8.2(a), last sentence | under any such program
8.2(b)(2) | under any such program
8.2(b), second sentence | a program | a type of Federal financial assistance
8.2(b), second sentence | such program | a program
8.2(b), last sentence | programs | types of Federal financial assistance
8.3(i), first sentence | for or in connection with any program
8.3(i), last sentence | under any program
8.3(j) | for the purpose of carrying out a program
8.4(b)(1), introductory text | under any program to which this part applies
8.4(b)(1)(vii) | when a program is applicable thereto
8.4(b)(2) | under any program
8.4(b)(2) | such program, or the class of persons to whom | program, or the class of persons to whom
8.4(c)(1), third sentence | program | plan
8.5(a), first sentence | to carry out a program
8.5(b)(3) | That in a program involving | When
8.5(b)(3) | assistance, | assistance is involved,
8.5(b)(5), third sentence | program | statute
8.6, introductory text, second sentence | program | type of Federal financial assistance
8.6(b), second sentence | student training programs | instances of student training
8.7(b), last sentence | of any program under | in
8.7(d) | program under which | program for which
8.12(e), first sentence | programs | Federal statutes, authorities, or other means by which Federal financial assistance is extended and
8.13(f) | under the program involved | to which this regulation applies
8.13(f) | assistance will | assistance to which this regulation applies will
8.13(f) | under such program
8.15(a), introductory text, first sentence | under such program

PART 8b—PROHIBITION OF DISCRIMINATION AGAINST THE HANDICAPPED IN FEDERALLY ASSISTED PROGRAMS OR ACTIVITIES OF THE DEPARTMENT OF COMMERCE

7. The heading for part 8b continues to read as set forth above.

8. The authority citation for part 8b continues to read as follows:

Authority: 29 U.S.C. 794.

9. Section 8b.3 is amended by redesignating paragraphs (h) through (l) as paragraphs (i) through (m), respectively; and adding a new paragraph (h) to read as follows:

§ 8b.3 Definitions.

* * * * *

(h) Program or activity means all of the operations of any entity described in paragraphs (h)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

* * * * *

10. Section 8b.4 is amended by revising the heading of paragraph (c) to read as follows:

§ 8b.4 Discrimination prohibited.

* * * * *

(c) Aid, benefits, or services limited by Federal law. * * *

* * * * *

Subpart C of Part 8b—[Amended]

11. The heading for subpart C of part 8b is amended by removing the word “Program.”

12. Section 8b.17 is amended by revising the heading and first sentence of paragraph (a) to read as follows:

§ 8b.17 Existing facilities.

(a) Accessibility. A recipient shall operate each program or activity to which this part applies so that when each part is viewed in its entirety it is readily accessible to qualified handicapped individuals. * * *

* * * * *

12. In the table below, for each section indicated in the left column, remove the text shown in the middle column and add the text shown in the right column:

Section | Remove | Add
8b.1, first sentence | or benefiting from
8b.1, last sentence | programs and activities | programs or activities
8b.1, last sentence | or benefiting from
8b.2, first sentence | program | program or activity
8b.2, first sentence | or benefiting from
8b.2, last sentence | program | program or activity
8b.4 (a) | or benefits from
8b.4(b)(1)(v) | program | program or activity
8b.4(b)(3) | programs or activities | aid, benefits, or services
8b.4(b)(4)(ii) | program | program or activity
8b.4(b)(5)(i) | or benefits from
8b.4(b)(6) | or benefiting from
8b.4(b)(7)(i) | under programs of Federal financial assistance
8b.4(c) | the benefits of a program | aid, benefits, or services
8b.4(c) | from a program | from aid, benefits, or services
8b.4(d) | programs and activities | programs or activities
8b.5(a), first sentence | for a program or activity
8b.5(a), first sentence | the program | the program or activity
8b.5(b)(3) | program | program or activity
8b.5(d) | a program | the objectives of Federal financial assistance
8b.5(d) | programs and activities | programs or activities
8b.6(a)(3)(i) | program | program or activity
8b.6(a)(3)(ii) | program | program or activity
8b.8(a), second sentence | programs and activities | programs or activities
8b.10(a) | programs | programs or activities
8b.11(a)(1) | or benefits from
8b.11(a)(3), last sentence | apprenticeship programs | apprenticeships
8b.12(a) | program | program or activity
8b.12(b)(1) | program | program or activity
8b.12(c), introductory text | program | program or activity
8b.12(c)(1) | program | program or activity
8b.12(e) | program | program or activity
8b.17(a), third sentence | program | aid, benefit, or service
8b.17(a), last sentence | Program accessibility | Accessibility
8b.17(a), last sentence | program | aid, benefit, or service
8b.17(b), last sentence | offer programs and activities to | serve
8b.17(e)(3) | program accessibility | accessibility under § 8b.17(a)
8b.19 | programs and activities | programs or activities
8b.19 | or benefit from
8b.21(a) | program or activity | aid, benefits, or services
8b.21(d) | programs and activities | program or activity
8b.22(a), second sentence | program of
8b.22(c) | in its program
8b.22(d)(1), first sentence | under the education program or activity operated by the recipient
8b.25(a)(1), first sentence | programs and activities | aid, benefits, or services

PART 20—NONDISCRIMINATION ON THE BASIS OF AGE IN PROGRAMS OR ACTIVITIES RECEIVING FEDERAL FINANCIAL ASSISTANCE

15. The authority citation for part 20 continues to read as follows:

Authority: Age Discrimination Act of 1975, as amended, 42 U.S.C. sec. 6101 et seq. and the government-wide regulations implementing the Act, 45 CFR part 90.

16. The heading of § 20.2 is revised to read as follows:

§ 20.2 Programs or activities to which these regulations apply.

* * * * *

17. Section 20.3 is amended by redesignating paragraphs (j) through (n) as paragraphs (k) through (o), respectively; and adding a new paragraph (j) to read as follows:

§ 20.3 Definitions.

* * * * *

(j) Program or activity means all of the operations of any entity described in paragraphs (j)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (j)(1),(2), or (3) of this section.

* * * * *

18. In the table below, for each section indicated in the left column, remove the text shown in the middle column and add the text shown in the right column:

Section | Remove | Add
20.1, last sentence | programs and activities | programs or activities
20.2(a) | or benefits from
20.4(d) | program | program or activity
20.7, introductory text | programs and activities | programs or activities
20.7(a), first sentence | program | program or activity
20.13(a)(2), last sentence | program
20.15(a)(1), last sentence | program | program or activity
20.15(b) | program and activity | program or activity
20.15(c)(2), first sentence | Federal
20.18(b)(2) | program or activity | Federal financial assistance

Dated: May 17, 2001.
Suzan J. Aramaki,
Director, Office of Civil Rights, Department of Commerce.

TENNESSEE VALLEY AUTHORITY

18 CFR Chapter XIII

RIN 3316-AA20

Authority and Issuance

For the reasons set forth in the joint preamble, TVA amends 18 CFR chapter XIII, parts 1302, 1307, and 1309 as set forth below:

PART 1302—NONDISCRIMINATION IN FEDERALLY ASSISTED PROGRAMS OF TVA— EFFECTUATION OF TITLE VI OF THE CIVIL RIGHTS ACT OF 1964

1. The authority citation for part 1302 continues to read as follows:

Authority: TVA Act, 48 Stat. 58 (1933), as amended, 16 U.S.C. 831-831dd, and sec. 602 of the Civil Rights Act of 1964, 78 Stat. 252, 42 U.S.C. 2000d-1.

2. Section 1302.3 is amended by adding a new paragraph (e) to read as follows:

§ 1302.3 Definitions.

* * * * *

(e) Program or activity and program refer to all of the operations of any entity described in paragraphs (e)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (e)(1), (2), or (3) of this section.

3. In the table below, for each section indicated in the left column, remove the text shown in the middle column and add the text shown in the right column:

Section | Remove | Add
1302.2, introductory text, first sentence | program in which | program for which
1302.2, introductory text, second sentence | programs | types of Federal financial assistance
1302.2(b) | under any such program
1302.2(c) | under any such program
1302.2, concluding text, first sentence | a program | a type of Federal financial assistance
1302.2, concluding text, first sentence | such program | a program
1302.2, concluding text, last sentence | programs | types of Federal financial assistance
1302.4(b)(1), introductory text | under any program or activity
1302.5(a), last sentence | in the program
1302.5(b), first sentence | through a program of | with
1302.5(b), second sentence | under a program of | with
1302.5(b), third sentence | program | statute
1302.6(b), last sentence | of any program under | in
1302.6(d) | program under which | program for which
1302.7(b)(3)(ii) | program | programs
1302.7(c)(3)(ii)(B) | program | programs
1302.9(e), first sentence | programs | Federal statutes, authorities, or other means by which Federal financial assistance is extended and
1302.10(f) | under the program involved | to which this regulation applies
1302.10(f) | assistance will | assistance to which this regulation applies will
1302.10(f) | under such program |
1302.12(a), introductory text, first sentence | under such program |

PART 1307—NONDISCRIMINATION WITH RESPECT TO HANDICAP

4. The authority citation for part 1307 continues to read as follows:

Authority: TVA Act, 48 Stat. 58 (1933) as amended, 16 U.S.C. 831-831dd (1976) and sec. 504 of the Rehabilitation Act of 1973, Pub. L. 93-112, as amended, 29 U.S.C. 794 (1976; Supp. II 1978).

5. Section 1307.1 is amended by adding paragraph (k) to read as follows:

§ 1307.1 Definitions.

* * * * *

(k) Program or activity means all of the operations of any entity described in paragraphs (k)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (k)(1), (2), or (3) of this section.

6. The heading of § 1307.4 is revised to read as follows:

§ 1307.4 Discrimination prohibited.

* * * * *

7. Section 1307.6 is amended by revising the section heading and the first sentence of paragraph (b)(1) to read as follows:

§ 1307.6 Accessibility.

* * * * *

(b) * * *

(1) Each program or activity subject to this part shall be operated so that when each part is viewed in its entirety it is readily accessible to and usable by qualified handicapped persons. * * *

* * * * *

8. In the table below, for each section indicated in the left column, remove the text shown in the middle column and add the text shown in the right column:

Section | Remove | Add
1307.3, first sentence | program in which | program or activity for which
1307.3, first sentence | under any program
1307.3, first sentence | under any such program |
1307.4(b)(1), introductory text | under any program |
1307.4(b)(1)(i) | program | program or activity
1307.4(b)(1)(ii) | program | program or activity
1307.4(b)(1)(iii) | program | program or activity
1307.4(b)(1)(iv) | program | program or activity
1307.4(b)(1)(v) | program | program or activity
1307.4(b)(1)(vi) | program | program or activity
1307.4(b)(1)(vii) | program | program or activity
1307.4(b)(2) | program | program or activity
1307.4(b)(2) | activities | aid, benefits, or services
1307.4(b)(3)(ii) | program | program or activity
1307.4(b)(4) | program, | program or activity,
1307.4(b)(4)(i) | program | program or activity
1307.4(c) | the benefits of a program | aid, benefits, or services
1307.4(c) | from a program | from aid, benefits, or services
1307.4(d), first sentence | programs and activities | programs or activities
1307.4(d), last sentence | programs | aid, benefits, or services
1307.5(c)(8) | social | those that are social
1307.5(c)(8) | programs |
1307.5(d) | apprenticeship programs | apprenticeships
1307.5(e)(2)(i) | programs | programs or activities
1307.6(a) | program | program or activity
1307.6(b)(1), third sentence | program |
1307.6(b)(1), last sentence | programs or activities | aid, benefits, or services
1307.6(b)(2), introductory text, second sentence | make covered programs or activities in existing facilities recipient accessible | comply with paragraph (b)(1) of this section
1307.6(c), second sentence | program |
1307.6(c), fourth sentence | program |
1307.6(d)(1) | program | program or activity
1307.7(a), last sentence | in the program |
1307.7(b), first sentence | through a program of | with
1307.7(b), second sentence | under a program of | with
1307.7(b), third sentence | program | statute
1307.8(b), last sentence | of any program under in
1307.8(d) | program under which | program or activity for which
1307.10(c), last sentence | program | program or activity
1307.11(e) first sentence | programs | Federal statutes, authorities, or other means by which Federal financial assistance is extended and
1307.12(f) | under the program involved | to which this regulation applies
1307.12(f) | assistance will | assistance to which this regulation applies will
1307.12(f) | under such program |
1307.13(a)(2) | program | program or activity
1307.13(b), first sentence | programs | programs or activities

PART 1309—NONDISCRIMINATION WITH RESPECT TO AGE

9. The authority citation for part 1309 continues to read as follows:

Authority: TVA Act of 1933, 48 Stat. 58 (1933), as amended, 16 U.S.C. 831-831dd (1976), and sec. 304 of the Age Discrimination Act of 1975, 89 Stat. 729 (1975), as amended, 42 U.S.C. 6103 (1976).

10. Section 1309.1 is amended by redesignating paragraphs (h) through (l) as paragraphs (i) through (m), and adding paragraph (h) to read as follows:

§ 1309.1 What are the defined terms in this part and what do they mean?

* * * * *

(h) Program or activity means all of the operations of any entity described in paragraphs (h)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

11. The heading for § 1309.4 is revised to read as follows:

§ 1309.4 What programs or activities are covered by the Act and this part?

* * * * *

12. In the table below, for each section indicated in the left column, remove the text shown in the middle column and add the text shown in the right column:

Section | Remove | Add
1309.2, last sentence | programs and activities | programs or activities
1309.9(a), last sentence | in the program |
1309.9(b), second sentence | under a program of | with
1309.9(b), third sentence | program | statute
1309.10(a), first sentence | programs and activities | programs or activities
1309.12(a), last sentence | of any program under | in
1309.12(c) | program under which | program or activity for which
1309.14(a), third sentence | program |
1309.14(d)(2), last sentence | program |
1309.15(b), first sentence | prograrm | program
1309.15(c)(2), first sentence | the TVA program | the program
1309.16, last sentence | program or activity | Federal financial assistance
1309.17(e), first sentence | programs | Federal statutes, authorities, of other means by which Federal financial assistance is extended and
1309.17(f)(3) | under the program involved | to which this regulation applies
1309.17(f)(3) | assistance will | assistance to which this regulations applies will
1309.17(f)(3) | under such program
1309.18(c) program | program or activity

Dated: May 29, 2001.
Steven R. Ayers,
General Manager, Contracts/Supplier & Diverse Business Relations, Tennessee Valley Authority.

DEPARTMENT OF STATE

22 CFR Chapter I

RIN 1400-AB17

Authority and Issuance

For the reasons set forth in the joint preamble, the Department of State amends 22 CFR chapter I, parts 141 through 143 as set forth below:

PART 141—NONDISCRIMINATION IN FEDERALLY-ASSISTED PROGRAMS OF THE DEPARTMENT OF STATE—EFFECTUATION OF TITLE VI OF THE CIVIL RIGHTS ACT OF 1964

1. The authority citation for part 141 continues to read as follows:

Authority: Sec. 602, 78 Stat. 252, sec. 4, 63 Stat. 111, as amended; 42 U.S.C. 2000d-1, 22 U.S.C. 2658.

2. Section 141.3 is amended by revising the heading of paragraph (c) to read as follows:

§ 141.3 Discrimination prohibited.

* * * * *

(c) Special benefits. * * *

* * * * *

3. Section 141.4 is amended by revising paragraph (b)(2) to read as follows:

§ 141.4 Assurances required.

* * * * *

(b) * * *

(2) The assurance required with respect to an institution of higher education, or any other institution, insofar as the assurance relates to the institution's practices with respect to admission or other treatment of individuals as students, or clients of the institution or to the opportunity to participate in the provision of services or other benefits to such individuals, shall be applicable to the entire institution.

* * * * *

4. Section 141.12 is amended by revising paragraph (f) to read as follows:

§ 141.12 Definitions.

* * * * *

(f) The terms program or activity and program mean all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (f)(1), (2), or (3) of this section.

* * * * *

Appendix A to Part 141 [Amended]

5. The heading for appendix A to part 141 is amended by removing the words “Grants and Activities” and adding, in their place, the words “Federal Financial Assistance”.

6. In the table below, for each section indicated in the left column, remove the text shown in the middle column and add the text shown in the right column:

Section | Remove | Add
141.2, first sentence | federally-assisted programs and activities | types of Federal financial assistance
141.2, second sentence | under any such program |
141.2(b) | under any such program |
141.2(c) | under any such program |
141.2, penultimate sentence | program or activity | type of Federal financial assistance
141.2, penultimate sentence | such program | a program
141.3(b)(1), introductory text | under any program |
141.3(c) | the benefits of a program | benefits
141.4(a)(1), first sentence | to carry out a program |
141.4(a)(2), third sentence | a program of |
141.4(a)(3), first sentence | for each program, |
141.4(a)(3), first sentence | in the program |
141.4(b)(1) | a student loan program | student loans
141.5(b), last sentence | of any program under | in
141.5(d) | program under which | program for which
141.8(e), first sentence | programs | Federal statutes, authorities, or other means by which Federal financial assistance is extended and
141.9(f) | under the program involved | to which this regulation applies
141.9(f) | assistance will | assistance to which this regulation applies will
141.9(f) | under such program |
141.12(c) | the program extending |
141.12(g) | for any program, |
141.12(g) | under any such program |
141.12(h) | for the purpose of carrying out a program |

PART 142—NONDISCRIMINATION ON THE BASIS OF HANDICAP IN PROGRAMS OR ACTIVITIES RECEIVING FEDERAL FINANCIAL ASSISTANCE

7. The heading for part 142 is revised to read as set forth above.

8. The authority citation for part 142 continues to read as follows:

Authority: 29 U.S.C. 794.

9. Section 142.3 is amended by adding paragraph (m) to read as follows:

§ 142.3 Definitions.

* * * * *

(m) Program or activity means all of the operations of any entity described in paragraphs (m)(1) through (4) of this section, any part of which is extended Federal financial assistance:

(1)(i) A department, agency, special purpose district, or other instrumentality of a State or of a local government; or (ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (m)(1), (2), or (3) of this section.

10. Section 142.4 is amended by revising the heading of paragraph (c) to read as follows:

§ 142.4 Discrimination prohibited.

* * * * *

(c) Aid, benefits, or services limited by Federal law. * * *

* * * * *

11. The heading for subpart C is revised to read as follows:

Subpart C—Accessibility

12. Section 142.16 is amended by revising the heading and first sentence of paragraph (a) to read as follows:

§ 142.16 Existing facilities.

(a) Accessibility. A recipient shall operate each program or activity to which this part applies so that when each part is viewed in its entirety it is readily accessible to and usable by handicapped persons. * * *

* * * * *

Appendix to Part 142 [Amended]

13. The heading for appendix A to part 142 is amended by removing the words “Grants and Activities” and adding, in their place, the words “Federal Financial Assistance”.

14. The introductory text for appendix A to part 142 is amended by removing the words “Programs of” and adding, in their place, the words “Types of Federal”.

15. In the table below, for each section indicated in the left column, remove the text shown in the middle column and add the text shown in the right column:

Section | Remove | Add
142.2, introductory text, first sentence | all programs | all programs or activities
142.2, introductory text, first sentence | federally-assisted programs and activities | types of Federal financial assistance
142.2, introductory text, second sentence | under any such program |
142.2(b) | under any such program |
142.2(c) | under any such program |
142.2(d), last sentence | program | Federal financial assistance
142.4(a) | or benefits from |
142.4(b)(1)(v) | recipients program | recipient's program or activity
142.4(b)(3) | programs or activities | aid, benefits, or services
142.4(b)(4)(ii) | program | program or activity
142.4(b)(5)(i) | or benefits from |
142.4(b)(6) | or benefiting from |
142.4(c) | the benefits or a program | aid, benefits, or services
142.4(d) | programs and activities | programs or activities
142.4(e) | programs and activities | programs or activities
142.5(a), first sentence | for a program or activity |
142.5(a), first sentence | program will | program or activity will
142.6(a)(3)(i) | program | program or activity
142.6(a)(3)(ii) | program | program or activity
142.8(a), second sentence | programs and activities | programs or activities
142.11(a)(3), last sentence | apprenticeship programs | apprenticeships
142.11(b)(8) | social | those that are social
142.11(b)(8) | programs |
142.12(a) | program | program or activity
142.12(c), introductory text | program | program or activity
142.12(c)(1) | program | program or activity
142.16(b), last sentence | offer programs and activities to | serve
142.16(d)(3) | program accessibility | accessibility under paragraph (a) of this section
142.41 | programs and activities | programs or activities
142.41 | or benefit from |
142.43(a) | program or activity | aid, benefits, or services
142.43(b) | programs activities | programs or activities
142.43(d) | programs and activities | programs or activities
142.44(a), second sentence | program of |
142.44(c) | in its program |
142.44(d)(1) | under the education program or activity operated by the recipient |
142.47(a)(1), first sentence | programs and activities | aid, benefits, or services
142.61 | programs and activities | programs or activities
142.61 | or benefit from |

PART 143—NONDISCRIMINATION ON THE BASIS OF AGE IN PROGRAMS OR ACTIVITIES RECEIVING FEDERAL FINANCIAL ASSISTANCE

16. The authority citation for part 143 is revised to read as follows:

Authority: Age Discrimination Act of 1975, as amended, (42 U.S.C. 6101 et seq.); 22 U.S.C. 2658; 45 CFR part 90.

17. The heading of § 143.2 is revised to read as follows:

§ 143.2 To what programs or activities do these regulations apply?

* * * * *

18. Section 143.3 is amended by redesignating paragraphs (b)(2) and (b)(3) as paragraphs (b)(3) and (b)(4) and adding a new paragraph (b)(2) to read as follows:

§ 143.3 Definitions.

* * * * *

(b) * * *

(2) Program or activity means all of the operations of any entity described in paragraphs (b)(2)(i) and (iv) of this section, any part of which is extended Federal financial assistance:

(i)(A) A department, agency, special purpose district, or other instrumentality of a State or of a local government; or

(B) The entity of such State or local government that distributes such assistance and each such department or agency (and each other State or local government entity) to which the assistance is extended, in the case of assistance to a State or local government;

(ii)(A) A college, university, or other postsecondary institution, or a public system of higher education; or

(B) A local educational agency (as defined in 20 U.S.C. 7801), system of vocational education, or other school system;

(iii)(A) An entire corporation, partnership, or other private organization, or an entire sole proprietorship—

(1) If assistance is extended to such corporation, partnership, private organization, or sole proprietorship as a whole; or

(2) Which is principally engaged in the business of providing education, health care, housing, social services, or parks and recreation; or

(B) The entire plant or other comparable, geographically separate facility to which Federal financial assistance is extended, in the case of any other corporation, partnership, private organization, or sole proprietorship; or

(iv) Any other entity which is established by two or more of the entities described in paragraph (b)(2)(i), (ii), or (iii) of this section.

* * * * *

Appendix A to Part 143 [Amended]

19. The heading for appendix A to part 143 is amended by removing the word “Programs” and adding, in its place, the words “Federal Financial Assistance”.

20. The undesignated center heading in appendix A to part 143 is amended by removing the words “Programs of” and adding, in their place, the words “Types of Federal”.

Appendix B to Part 143 [Amended]

21. The heading for appendix B to part 143 is amended by removing the word “Programs” and adding, in its place, the words “Federal Financial Assistance”.

22. The undesignated center heading in appendix B to part 143 is amended by removing the words “Programs of” and adding, in their place, the words “Types of Federal”.

Appendix C to Part 143 [Amended]

23. The heading for appendix C to part 143 is amended by removing the word “Programs” and adding, in its place, the words “Federal Financial Assistance”.

24. The undesignated center heading in appendix C to part 143 is amended by removing the words “Program of” and adding, in their place, the words “Types of Federal”.

25. In the table below, for each section indicated in the left column, remove the text shown in the middle column and add the text shown in the right column:

Section | Remove | Add
143.1, last sentence | programs and activities | programs or activities
143.2 | or benefits from |
143.21 | programs and activities | programs or activities
143.34(a)(2), last sentence | program |
143.36(c)(2), first sentence | Federal |
143.39(b)(2) | program or activity | Federal financial assistance

Dated: May 18, 2001.
Grant S. Green, Jr.,
Under Secretary for Management.

AGENCY FOR INTERNATIONAL DEVELOPMENT

22 CFR Chapter II

RIN 0412-AA45

Authority and Issuance

For the reasons set forth in the joint preamble, AID amends 22 CFR chapter II, parts 209, 217, and 218, as set forth below:

PART 209-NONDISCRIMINATION IN FEDERALLY-ASSISTED PROGRAMS OF THE AGENCY FOR INTERNATIONAL DEVELOPMENT—EFFECTUATION OF TITLE VI OF THE CIVIL RIGHTS ACT OF 1964

1. The authority citation for part 209 continues to read as follows:

Authority: Sec. 602, 78 Stat. 252, and sec. 621, Foreign Assistance Act of 1961, 75 Stat. 445; 22 U.S.C. 2402.

2. Section 209.3 is amended by revising paragraph (g) to read as follows:

§ 209.3 Definitions.

* * * * *

(g) The terms program or activity and program mean all of the operations of any entity described in paragraphs (g)(1) through (4) of this section, any part of which is extended Federal financial assistance:

(1) (i) A department, agency, special purpose district, or other instrumentality of a State or of a local government; or

(ii) The entity of such State or local government that distributes such assistance and each such department or agency (and each other State or local government entity) to which the assistance is extended, in the case of assistance to a State or local government;

(2) (i) A college, university, or other postsecondary institution, or a public system of higher education; or

(ii) A local educational agency (as defined in 20 U.S.C. 7801), system of vocational education, or other school system;

(3) (i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

3. Section 209.5 is amended by revising paragraph (b)(2) to read as follows:

§ 209.5 Assurance required.

* * * * *

(b) * * *

(2) The assurance required with respect to an institution of higher education or any other institution, insofar as the assurance relates to the institution's practices with respect to admission or other treatment of individuals as students or clients of the institution or to the opportunity to participate in the provision of services or other benefits to such individuals, shall be applicable to the entire institution.

4. In the table below, for each section indicated in the left column, remove the text shown in the middle column and add the text shown in the right column:

Section | Remove | Add
209.2, first sentence | federally-assisted programs and activities | types of Federal financial assistance
209.2, second sentence | under any such program
209.2(b) | under any such program
209.2(c) | under any such program
209.2, last sentence | program | Federal financial assistance
209.3(f) | for the purpose of carrying out a program
209.3(h) | for any program,
209.3(h) | under any such program
209.4(b)(1), introductory text | under any program
209.5(a)(1), first sentence | to carry out a program
209.5(a)(1), first sentence | except a program | except an application
209.5(a)(1), fifth sentence | for each program
209.5(a)(1), fifth sentence | in the program
209.5(a)(2), first sentence | through a program of | with
209.5(a)(2), second sentence | under a program of | with
209.5(a)(2), third sentence | program | statute
209.5(b)(1) | for a student assistance program | for student assistance
209.6(b), last sentence | of any program under | in
209.6(d) | under | for
209.9(e), first sentence | programs | Federal statutes, authorities, or other means by which Federal financial assistance is extended and
209.10(e) | under the program involved | to which this regulation applies
209.10(e) | assistance will | assistance to which this regulation applies will
209.10(e) | under such program
209.12(a), first sentence | under such program
209.13 | programs | Federal financial assistance

PART 217—NONDISCRIMINATION ON THE BASIS OF HANDICAP IN PROGRAMS OR ACTIVITIES RECEIVING FEDERAL FINANCIAL ASSISTANCE

5. The heading for part 217 is revised to read as set forth above.

6. The authority citation for part 217 continues to read as follows:

Authority: 29 U.S.C. 794, unless otherwise noted.

7. Section 217.3 is amended by adding a new paragraph (l) to read as follows:

§ 217.3 Definitions.

* * * * *

(1) Program or activity means all of the operations of any entity described in paragraphs (l)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (l)(1), (2), or (3) of this section.

8. Section 217.4 is amended by revising the heading of paragraph (c) to read as follows:

§ 217.4 Discrimination prohibited.

* * * * *

(c) Aid, benefits, or services limited by Federal law. * * *

Subpart C of Part 217—[Amended]

9. The heading for subpart C is amended by removing the word “Program”.

10. Section 217.22 is amended by revising the heading and first sentence of paragraph (a) to read as follows:

§ 217.22 Existing facilities.

(a) Accessibility. A recipient shall operate each program or activity to which this part applies so that when each part is viewed in its entirety it is readily accessible to handicapped persons. * * *

* * * * *

11. In the table below, for each section indicated in the left column, remove the text shown in the middle column and add the text shown in the right column:

Section | Remove | Add
217.2, first sentence | programs carried | programs or activities carried
217.2, first sentence | federally-assisted programs and activities | types of Federal financial assistance
217.2, second sentence | under any such program
217.2(b) | under any such program
217.2(c) | under any such program
217.2, last sentence | program | Federal financial assistance
217.4(a) | or benefits from
217.4(b)(1)(v) | program | program or activity
217.4(b)(3) | programs or activities | aid, benefits, or service
217.4(b)(4)(ii) | program | program or activity
217.4(b)(5)(i) | or benefits from
217.4(b)(6) | or benefiting from
217.4(c) | the benefits of a program | aid, benefits, or services
217.4(c) | from a program | from aid, benefits, or services
217.5(a), first sentence | for a program or activity
217.5(a), first sentence | the program | the program or activity
217.6(a)(3)(i) | program | program or activity
217.6(a)(3)(ii) | program | program or activity
217.6(a)(3)(iii) | program | program or activity
217.8(a), second sentence | programs and activities | programs or activities
217.11(a)(3), last sentence | apprenticeship programs | apprenticeships
217.11(b)(8) | social | those that are social or recreational
217.11(b)(8) | programs
217.12(a) | program | program or activity
217.12(c), introductory text | program | program or activity
217.12(c)(1) | program | program or activity
217.14(b) | programs | program
217.22(b), last sentence | offer programs and activities to | serve
217.22(d)(3) | program accessibility | accessibility under § 217.22(a)
217.41 | programs and activities | programs or activities
217.41 | or benefit from
217.43(a) | program or activity | aid, benefits, or services
217.43(d) | programs and activities | program or activity
217.44(a), second sentence | program of
217.44(c) | in its program
217.44(d)(1) | under the education program or activity operated by the recipient
217.47(a)(1), first sentence | programs and activities | aid, benefits, or services

PART 218—NONDISCRIMINATION ON THE BASIS OF AGE IN PROGRAMS OR ACTIVITIES RECEIVING FEDERAL FINANCIAL ASSISTANCE

12. The authority citation for part 218 continues to read as follows:

Authority: Age Discrimination Act of 1975, as amended, 42 U.S.C. 6101 et seq.; 45 CFR part 90; 22 U.S.C. 2658, unless otherwise noted.

13. The heading for § 218.02 is revised to read as follows:

§ 218.02 To what programs or activities do these regulations apply?

* * * * *

14. Section 218.03 is amended by adding paragraph (b)(4) to read as follows:

§ 218.03 Definitions.

* * * * *

(b) * * *

(4) Program or activity means all of the operations of any entity described in paragraphs (b)(4)(i) through (iv) of this section, any part of which is extended Federal financial assistance:

(i)(A) A department, agency, special purpose district, or other instrumentality of a State or of a local government; or

(B) The entity of such State or local government that distributes such assistance and each such department or agency (and each other State or local government entity) to which the assistance is extended, in the case of assistance to a State or local government;

(ii)(A) A college, university, or other postsecondary institution, or a public system of higher education; or

(B) A local educational agency (as defined in 20 U.S.C. 7801), system of vocational education, or other school system;

(iii)(A) An entire corporation, partnership, or other private organization, or an entire sole proprietorship—

(1) If assistance is extended to such corporation, partnership, private organization, or sole proprietorship as a whole; or

(2) Which is principally engaged in the business of providing education, health care, housing, social services, or parks and recreation; or

(B) The entire plant or other comparable, geographically separate facility to which Federal financial assistance is extended, in the case of any other corporation, partnership, private organization, or sole proprietorship; or

(iv) Any other entity which is established by two or more of the entities described in paragraph (b)(4)(i), (ii), or (iii) of this section.

Appendices A, B, and C to Part 218 [Amended]

15. The headings for appendices A, B, and C to part 218 are amended by removing the words “Affected Programs” and adding, in their place, the words “Types of Federal Financial Assistance”.

16. The undesignated center headings immediately following the headings for appendices A and B to part 218 are amended by removing the words “Programs of” and adding, in their place, the word “Federal”.

17. The undesignated center heading immediately following the heading for appendix C to part 218 is amended by removing the words “Program of” and adding, in their place, the word “Federal”.

18. In the table below, for each section indicated in the left column, remove the text shown in the middle column and add the text shown in the right column:

Section | Remove | Add
218.01, last sentence | programs and activities | programs or activities
218.02 | or benefits from
218.21 | programs and activities | program or activities
218.34(a)(2), last sentence | program
218.36(c)(2) | Federal
218.39(b)(2) | program or activity | Federal financial assistance

Dated: May 1, 2001.
Jessalyn L. Pendarvis,
Director, Office of Equal Opportunity Programs, Agency for International Development.

DEPARTMENT OF JUSTICE

28 CFR Chapter I

[A.G. Order No. 2679-2003]

RIN 1190-AA49

Authority and Issuance

For the reasons set forth in the joint preamble, DOJ amends 28 CFR chapter I, part 42 as set forth below:

PART 42—NONDISCRIMINATION; EQUAL EMPLOYMENT OPPORTUNITY; POLICIES AND PROCEDURES

Subpart C—Nondiscrimination in Federally Assisted Programs—Implementation of Title VI of the Civil Rights Act of 1964 ¹

¹ See also 28 CFR 50.3. Guidelines for enforcement of Title VI, Civil Rights Act.

1. The authority citation for subpart C is revised to read as follows:

Authority: 42 U.S.C. 2000d-2000d-7; E.O. 12250, 45 FR 72995, 3 CFR, 1980 Comp., p. 298.

2. Section 42.102 is amended by revising paragraph (d) to read as follows:

§ 42.102 Definitions.

* * * * *

(d) The terms program or activity and program mean all of the operations of any entity described in paragraphs (d)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (d)(1), (2), or (3) of this section.

* * * * *

3. Section 42.104 is amended by revising paragraph (b)(4) to read as follows:

§ 42.104 Discrimination prohibited.

* * * * *

(b) * * *

(4) For the purposes of this section the disposition, services, financial aid, or benefits provided under a program receiving Federal financial assistance shall be deemed to include all portions of the recipient's program or activity, including facilities, equipment, or property provided with the aid of Federal financial assistance.

* * * * *

4. Section 42.105 is amended by revising paragraph (b), paragraph (c)(2), and the heading of paragraph (d) to read as follows:

§ 42.105 Assurance required.

* * * * *

(b) Assurances from government agencies. In the case of any application from any department, agency, or office of any State or local government for Federal financial assistance for any specified purpose, the assurance required by this section shall extend to any other department, agency, or office of the same governmental unit if the policies of such other department, agency, or office will substantially affect the project for which Federal financial assistance is requested.

(c) * * *

(2) The assurance required with respect to an academic institution, detention or correctional facility, or any other institution or facility, insofar as the assurance relates to the institution's practices with respect to admission or other treatment of individuals as students, patients, wards, inmates, persons subject to control, or clients of the institution or facility or to the opportunity to participate in the provision of services, disposition, treatment, or benefits to such individuals, shall be applicable to the entire institution or facility.

(d) Continuing Federal financial assistance. * * *

* * * * *

5. In the table below, for each section indicated in the left column, remove the text shown in the middle column and add the text shown in the right column:

Section | Remove | Add
42.102(f) | for any program,
42.102(f) | under any such program
42.102(g) | for the purpose of carrying out a program
42.103, introductory text, second sentence | under any such program
42.104(b)(1), introductory text | under any program
42.105(a)(1), first sentence | to carry out a program
42.105(a)(1), fourth sentence | for each program
42.105(a)(1), fourth sentence | in the program
42.105(a)(2), first sentence | through a program of | with
42.105(a)(2), second sentence | under a program of | with
42.105(a)(2), last sentence | program | statute
42.105(d), introductory text | administering a program which receives | applying for
42.106(b), last sentence | of any program under | in
42.106(d) | program under which | program for which
42.109(e), first sentence | programs | Federal statutes, authorities, or other means by which Federal financial assistance is extended and
42.110(f) | under the program involved | to which this regulation applies
42.110(f) | assistance will | assistance to which this regulation applies will
42.110(f) | under such program

6. The heading for subpart G is revised to read as follows:

Subpart G—Nondiscrimination Based on Handicap in Federally Assisted Programs or Activities—Implementation of Section 504 of the Rehabilitation Act of 1973

7. The authority citation for subpart G continues to read as follows:

Authority: 5 U.S.C. 301; 28 U.S.C. 509, 510; 29 U.S.C. 706, 794; E.O. 12250.

§ 42.520 [Amended]

8. The undesignated center heading immediately preceding § 42.520 is amended by removing the word “Program.”

9. Section 42.521 is amended by revising the heading and first sentence of paragraph (a) to read as follows:

§ 42.521 Existing facilities.

(a) Accessibility. A recipient shall operate each program or activity to which this subpart applies so that when each part is viewed in its entirety it is readily accessible to and usable by handicapped persons. * * *

* * * * *

10. Section 42.540 is amended by revising paragraph (h) to read as follows:

§ 42.540 Definitions.

* * * * *

(h) Program or activity means all of the operations of any entity described in paragraphs (h) (1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

* * * * *

Appendix A to Subpart G of Part 42 [Amended]

11. The Note in appendix A to subpart G is amended by removing the word “program” and adding, in its place, the words “program or activity.”

12. In the table below, for each section indicated in the left column, remove the text shown in the middle column and add the text shown in the right column:

Section | Remove | Add
42.501 | program | program or activity
42.502, first sentence | program | program or activity
42.502, first sentence | or benefiting from
42.502, last sentence | program | program or activity
42.503(a) | program | program or activity
42.503(a) | or benefiting from
42.503(b)(1), introductory text | program | program or activity
42.503(b)(1)(i) | program | program or activity
42.503(b)(1)(ii) | program | program or activity
42.503(b)(1)(iv) | program | program or activity
42.503(b)(1)(vi) | program | program or activity
42.503(b)(2) | program | program or activity
42.503(b)(2) | program | aid, benefits, or services
42.503(b)(3) | program | program or activity
42.503(b)(4) | program | program or activity
42.503(b)(5) | a program | aid, benefits, or services
42.503(b)(5) | any program | any program or activity
42.503(b)(6) | program | entity
42.503(c) | programs | aid, benefits, or services
42.503(d) | programs | programs or activities
42.503(f), first sentence | program | program or activity
42.504(a), first sentence | program | program or activity
42.504(a), second sentence | for each of its assistance programs
42.504(a), second sentence | program | program or activity
42.504(b) | program | program or activity
42.505(a), last sentence | program | program or activity
42.505(b) | program | program or activity
42.505(f)(1), second sentence | programs | programs or activities
42.510(a)(1) | program | program or activity
42.510(a)(1) | or benefiting from
42.510(a)(2) | program | program or activity
42.510(a)(3), last sentence | apprenticeship programs | apprenticeships
42.510(b)(7) | social | those that are social
42.510(b)(7) | programs
42.511(a) | program | program or activity
42.511(c), introductory text | program | program or activity
42.511(c)(1) | program | program or activity
42.520 | program | program or activity
42.521(b), first sentence | in making its program accessible to its program accessible | in making its program or activity accessible
42.521(b), last sentence | offer programs to | serve
42.521(b), last sentence | to obtain the full benefits of the program
42.521(d)(1) | program | program or activity
42.521(d)(3) | program accessibility | accessibility under § 42.521(a)
42.530(a), first sentence | programs | programs or activities
42.530(b) | programs | programs or activities
42.530(c) | programs | programs or activities
42.540(i), first sentence | programs | programs or activities

13. The heading for subpart I is revised to read as follows:

Subpart I—Nondiscrimination on the Basis of Age in Federally Assisted Programs or Activities; Implementation of the Age Discrimination Act of 1975

14. The authority citation for subpart I continues to read as follows:

Authority: 42 U.S.C. 6103(a)(4); 45 CFR part 90.

15. Section 42.702 is amended by revising the definition of “Program or activity” to read as follows:

§ 42.702 Definitions.

* * * * *

Program or activity means all of the operations of any entity described in paragraphs (1) through (4) of this definition, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (1), (2), or (3) of this definition.

* * * * *

16. In the table below, for each section indicated in the left column, remove the text shown in the middle column and add the text shown in the right column:

Section | Remove | Add
42.701(b) | programs | programs or activities
42.710(b), last sentence | program | program or activity
42.712(a)(2) | program | program or activity
42.712(b)(2) | program | program or activity
42.712(c) | program | program or activity
42.713(b), last sentence | program | program or activity
42.714 | program | program or activity
42.720, first sentence | program | program or activity
42.724(b) | program | program or activity
42.725 | programs and activities | programs or activities
42.733(b)(1)(i)(A) | program | program or activity
42.733(b)(2), last sentence | programs | programs or activities
42.733(b)(3), last sentence | program | program or activity

Dated: July 1, 2003.
John Ashcroft,
Attorney General.

DEPARTMENT OF LABOR

29 CFR Subtitle A

RIN 1291-AA31

Authority and Issuance

For the reasons set forth in the joint preamble, DOL amends 29 CFR subtitle A, parts 31 and 32 as set forth below:

PART 31—NONDISCRIMINATION IN FEDERALLY ASSISTED PROGRAMS OF THE DEPARTMENT OF LABOR—EFFECTUATION OF TITLE VI OF THE CIVIL RIGHTS ACT OF 1964

1. The authority citation for part 31 continues to read as follows:

Authority: Sec. 602, 78 Stat. 252; 42 U.S.C. 501, 29 U.S.C. 49k, 5 U.S.C. 301.

2. Section 31.2 is amended by revising paragraph (g) to read as follows:

§ 31.2 Definitions.

* * * * *

(g) The terms program or activity and program mean all of the operations of any entity described in paragraphs (g)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

3. Section 31.3 is amended by revising the heading of paragraph (d)(1) to read as follows:

§ 31.3 General standards.

* * * * *

(d) * * *

(1) Employment service. * * *

* * * * *

4. Section 31.6 is amended by revising the heading of paragraph (b) to read as follows:

§ 31.6 Assurances required.

* * * * *

(b) Continuing Federal financial assistance. * * *

5. In the table below, for each section indicated in the left column, remove the text shown in the middle column and add the text shown in the right column:

Section | Remove | Add
31.2(f) | for the purpose of carrying out a program
31.2(h) | for any program,
31.2(h) | under any such program
31.3(b)(1), introductory text | under any program
31.3(d), introductory text, first sentence | programs and activities | types of Federal financial assistance
31.3(d), introductory text third sentence | particular program | particular type of Federal financial assistance
31.3(d), introductory text, last sentence | listed program | listed type of Federal financial assistance
31.3(d), introductory text, last sentence | that program that | assistance
31.3(d), introductory text, last sentence | other programs or activities | programs or activities receiving other types of Federal financial assistance
31.5(b), last sentence | of any program under | in
31.5(d) | under | for
31.6(a)(1), first sentence | to carry out a program
31.6(a)(1), first sentence | to carry out such program
31.6(a)(1), first sentence | except a program | except an application
31.6(a)(1), second sentence | Every program | Every award
31.6(a)(1), sixth sentence | for each program
31.6(a)(1), sixth sentence | in this program
31.6(a)(2), second sentence | under a program of | with
31.6(a)(2), third sentence | program under | statute under
31.6(b), introductory text | to carry out a program involving | for
31.9(e), first sentence | programs | Federal statutes, authorities, or other means by which Federal financial assistance is extended and
31.10(e) | under the program involved | to which this regulation applies
31.10(e) | assistance will | assistance to which this regulation applies will
31.10(e) | under such program
31.12(a), | first sentence under such program

PART 32—NONDISCRIMINATION ON THE BASIS OF HANDICAP IN PROGRAMS OR ACTIVITIES RECEIVING FEDERAL FINANCIAL ASSISTANCE

6. The heading for part 32 is revised to read as set forth above.

7. The authority citation for part 32 continues to read as follows:

Authority: Sec. 504, Rehabilitation Act of 1973, Pub. L. 93-112, 87 Stat. 394 (29 U.S.C. 794); sec. 111(a), Rehabilitation Act Amendments of 1974, Pub. L. 93-516, 88 Stat. 1619 (29 U.S.C. 706); secs. 119 and 122 of the Rehabilitation Comprehensive Services and Developmental Disabilities Amendments of 1978, Pub. L. 95-602, 92 Stat. 2955; Executive Order 11914, 41 FR 17871.

8. Section 32.2 is amended by revising paragraph (a) to read as follows:

§ 32.2 Application.

(a) This part applies to each recipient of Federal financial assistance from the Department of Labor, and to every program or activity that receives such assistance.

* * * * *

9. Section 32.3 is amended by adding, in alphabetical order, a definition of Program or activity to read as follows:

§ 32.3 Definitions.

* * * * *

Program or activity means all of the operations of any entity described in paragraphs (1) through (4) of this definition, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (1), (2), or (3) of this definition.

* * * * *

10. Section 32.4 is amended by revising the heading of paragraph (c) to read as follows:

§ 32.4 Discrimination prohibited.

* * * * *

(c) Aid, benefits, services, or training limited by Federal law. * * *

* * * * *

11. Section 32.5 is amended by revising paragraph (d) to read as follows:

§ 32.5 Assurances required.

* * * * *

(d) Interagency agreements. Where funds are granted by the Department to another Federal agency, and where the grant obligates the recipient agency to comply with the rules and regulations of the Department applicable to that grant the provisions of this part shall apply to programs or activities operated with such funds.

12. The heading for subpart B is revised to read as follows:

Subpart B—Employment Practices and Employment Related Training Participation

13. The heading for subpart C is revised to read as follows:

Subpart C—Accessibility

14. Section 32.27 is amended by revising the section heading and the first sentence of paragraph (a) to read as follows:

§ 32.27 Accessibility.

(a) Purpose. A recipient shall operate each program or activity to which this part applies so that when each part is viewed in its entirety it is readily accessible to qualified handicapped individuals. * * *

* * * * *

15. In the table below, for each section indicated in the left column, remove the text shown in the middle column and add the text shown in the right column:

Section | Remove | Add
32.1 | or benefiting from
32.1, last sentence | programs and activities | programs or activities
32.3, definition of Facility | program | program or activity
32.3, definition of Qualified handicapped individual, paragraph (b) | program | program or activity
32.3, definition of Qualified handicapped individual, paragraph (c) | programs
32.3, definition of Qualified handicapped individual, paragraph (c) | in the program | in the program or activity
32.3, definition of Reasonable accommodation, introductory text, first sentence | training program | training
32.3, definition of Reasonable accommodation, introductory text, first sentence | an employment | employment
32.3, definition of Reasonable accommodation, introductory text, first sentence | recipient's program | recipient's program or activity
32.3, definition of Reasonable accommodation paragraph (a) | where the program | where the program or activity
32.4(a) | or benefits from
32.4(b)(1)(v) | program | program or activity
32.4(b)(2) | services and training | services or training
32.4(b)(3) | programs or activities | aid, benefits, services, or training
32.4(b)(4)(ii) | program | program or activity
32.4(b)(5)(i) | or benefits from
32.4(b)(6) | or benefiting from
32.4(b)(7)(i), first sentence | under programs of | receiving
32.4(b)(7)(i), second sentence | programs of employment | employment
32.4(c) | the benefits of a program | aid, benefits, program services, or training
32.4(c) | individuals from a program | individuals from aid, benefits, services, or training
32.4(d) | programs and activities | programs or activities
32.5(a), first sentence | for a program or activity
32.5(a), first sentence | program will | program or activity will
32.5(b)(3) | program | program or activity
32.6(a)(3)(i) | program | program or activity
32.6(a)(3)(ii) | program | program or activity
32.8(a), second sentence | programs and activities | programs or activities
32.10(a) | programs | programs or activities
32.12(a)(1), last sentence | programs | under programs or activities
32.12(a)(3), last sentence | apprenticeship programs | apprenticeships
32.12(b)(8) | social | those that are social
32.12(b)(8) | programs
32.13(a) | program | program or activity
32.13(b), introductory text | program | program or activity
32.13(b)(1) | program | program or activity
32.13(b)(2) | training program | training
32.13(d) | program | program or activity
32.15(c)(1), second sentence | training programs | training
32.17(a), last sentence | programs of | programs or activities receiving
32.27(a), third sentence | particular program | particular aid, benefit, service, or training
32.27(a), third sentence | program must | aid, benefit, service, or training must
32.27(a), fourth sentence | program accessibility | Accessibility
32.27(a), fourth sentence | program accessible | program or activity accessible
32.27(b)(1) | including | including those involving
32.27(b)(1) | when | when each part is
32.27(b)(2), second sentence | programs
32.27(c), last sentence | offer programs and activities to | serve
32.27(e)(3) | program accessibility | accessibility under § 32.27(a)
32.44(b), second sentence | programs | programs or activities
32.44(b), last sentence | of any program under | in
32.46(c)(2), last sentence | program | program or activity
32.47(c) | programs | programs or activities

Dated: July 24, 2001.
Elaine L. Chao,
Secretary, Department of Labor.

DEPARTMENT OF VETERANS AFFAIRS

38 CFR Chapter I

RIN 2900-AK13

Authority and Issuance

For the reasons set forth in the joint preamble, VA amends 38 CFR chapter I, part 18 as set forth below:

PART 18—NONDISCRIMINATION IN FEDERALLY-ASSISTED PROGRAMS OF THE DEPARTMENT OF VETERANS AFFAIRS—EFFECTUATION OF TITLE VI OF THE CIVIL RIGHTS ACT OF 1964

Subpart A—General

1. The authority citation for subpart A continues to read as follows:

Authority: Sec. 602, 78 Stat. 252 (42 U.S.C. 2000d-1) and the laws referred to in Appendix A.

2. Section 18.4 is amended by revising the heading of paragraph (b) and paragraph (d) to read as follows:

§ 18.4 Assurances required.

* * * * *

(b) Continuing Federal financial assistance. * * *

* * * * *

(d) Extent of application to institution or facility. In the case where any assurances are required from an academic, a medical care, or any other institution or facility, insofar as the assurances relate to the institution's practices with respect to the admission, care, or other treatment of persons by the institution or with respect to the opportunity of persons to participate in the receiving or providing of services, treatment, or benefits, such assurances shall be applicable to the entire institution or facility.

3. Section 18.13 is amended by revising paragraph (f) to read as follows:

§ 18.13 Definitions.

* * * * *

(f) The terms program or activity and program mean all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (f)(1), (2), or (3) of this section.

* * * * *

4. In the table below, for each section indicated in the left column, remove the text shown in the middle column and add the text shown in the right column:

Section | Remove | Add
18.2, first sentence | the federally assisted programs and activities | the types of Federal financial assistance
18.2, second sentence | under any such program
18.2(b) | under any such program
18.2(c) | under any such program
18.2, penultimate sentence | program or activity | type of Federal financial assistance
18.2, penultimate sentence | such program | a program
18.2, last sentence | programs | types of Federal financial assistance
18.3(b)(1), introductory text | under any program
18.4(a)(1), first sentence | to carry out a program
18.4(a)(1), first sentence | except a program | except an application
18.4(a)(1), second sentence | program | award
18.4(a)(1), sixth sentence | for each program,
18.4(a)(1), sixth sentence | in the program
18.4(b), introductory text, first sentence | to carry out a program involving | for
18.4(b), introductory text, first sentence | programs | types of Federal financial assistance
18.4(b), concluding text | under a continuing program
18.6(b), second sentence | of any program under | in
18.6(d) | program under | program for
18.9(e), first sentence | programs | Federal statutes, authorities, or other means by which Federal financial assistance is extended and
18.10(f) | under the program involved | to which this regulation applies
18.10(f) | assistance will | assistance to which this regulation applies will
18.10(f) | under such program
18.12(a), first sentence | under such program
18.13(h) | for any program,
18.13(h) | under any such program

5. The heading for subpart D is revised to read as follows:

Subpart D—Nondiscrimination on the Basis of Handicap

6. The authority citation for subpart D is revised to read as follows:

Authority: 29 U.S.C. 706, 794.

7. Section 18.403 is amended by adding paragraph (m) to read as follows:

§ 18.403 Definitions.

* * * * *

(m) Program or activity means all of the operations of any entity described in paragraphs (m)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity that is established by two or more of the entities described in paragraph (m)(1), (2), or (3) of this section.

§ 18.404 [Amended]

8. In § 18.404, the heading of paragraph (c) is amended by removing the word “Programs” and adding, in its place, the words “Aid, benefits, or services”.

9. Section 18.405 is amended by revising paragraph (c) to read as follows:

§ 18.405 Assurances required.

* * * * *

(c) Extent of application to institution or facility. An assurance shall apply to the entire institution or facility.

* * * * *

§ 18.421 [Amended]

10. The undesignated center heading before § 18.421 is amended by removing the word “Program”.

11. In § 18.422, the heading and first sentence of paragraph (a) are revised to read as follows:

§ 18.422 Existing facilities.

(a) Accessibility. A recipient shall operate each program or activity to which this part applies so that when each part is viewed in its entirety it is readily accessible to handicapped persons. * * *

* * * * *

12. The heading of § 18.438 is revised to read as follows:

§ 18.438 Adult education.

* * * * *

13. The heading of § 18.439 is revised to read as follows:

§ 18.439 Private education.

* * * * *

14. In the table below, for each section indicated in the left column, remove the text shown in the middle column and add the text shown in the right column:

Section | Remove | Add
18.402 | or benefits from
18.403(h)(1) | a program of
18.404(a) | or benefits from
18.404(b)(1)(v) | program | program or activity
18.404(b)(3) | programs or activities | aid, benefits, or services
18.404(b)(4)(ii) | program | program or activity
18.404(b)(5)(i) | or benefits from
18.404(b)(6) | or benefiting from
18.404(c) | a program | aid, benefits, or services
18.405(a) | for a program or activity
18.405(a) | the program | the program or activity
18.406(a)(3)(i) | program | program or activity
18.406(a)(3)(ii) | program | program or activity
18.406(a)(3)(iii) | program | program or activity
18.408(a), second sentence | programs and activities | programs or activities
18.411(a)(3), last sentence | apprenticeship programs | apprenticeships
18.411(b)(8) | social | those that are social
18.411(b)(8) | programs
18.412(a) | program | program or activity
18.412(c), introductory text | program | program or activity
18.412(c)(1) | program | program or activity
18.422(b), last sentence | offer programs and activities to | serve
18.422(c), last sentence | programs | programs or activities
18.422(e)(3) | program accessibility | accessibility under paragraph (a) of this section
18.431 | programs and activities | programs or activities
18.431 | or benefit from
18.433(b)(2) | individualized education program | Individualized Education Program
18.433(b)(3), first sentence | in
18.433(b)(3), first sentence | to a program | for aid, benefits, or services
18.433(b)(3), first sentence | the one | those
18.433(b)(3), first sentence | operates | operates or provides
18.433(c)(1), second sentence | in
18.433(c)(1), second sentence | to a program | for aid, benefits, or services
18.433(c)(1), second sentence | operated | operated or provided
18.433(c)(1), second sentence | the program | the aid, benefits, or services
18.433(c)(2) | in
18.433(c)(2) | to a program | for aid, benefits, or services
18.433(c)(2) | operated | operated or provided
18.433(c)(2) | the program | the aid, benefits, or services
18.433(c)(4), last sentence | such a program | a free appropriate public education
18.435(a) | education program | education program or activity
18.435(a) | in a regular or special program | in regular or program special education
18.435(b), introductory text | programs and activities | programs or activities
18.435(b), introductory text | or benefit from
18.437(a)(1) | or benefit from
18.437(b) | or benefit from
18.437(c)(1), first sentence | programs and activities | aid, benefits, or services
18.437(c)(1), first sentence | or benefits from
18.437(c)(1), last sentence | in these activities
18.438, first sentence | operates an | provides
18.438, first sentence | program or activity
18.438, first sentence | from the program or activity
18.438, last sentence | under the program or activity
18.439(a) | operates a | provides
18.439(a) | education program | education
18.439(a) | from that program
18.439(a) | the recipient's program | that recipient's program or activity
18.439(c) | operates | provides
18.439(c) | programs shall operate those programs | shall do so
18.441 | programs and activities | programs or activities
18.441 | or benefit from
18.443(a) | program or activity | aid, benefits, or services
18.443(d) | programs and activities | program or activity
18.444(a), last sentence | program of
18.444(c) | in its program
18.444(d)(1) | under the education program or activity operated by the recipient
18.447(a)(1), first sentence | programs and activities | aid, benefits, or services
18.451 | programs and activities | programs or activities
18.451 | or benefit from
18.454, first sentence | program or activity | program or activity that provides aid, benefits, or services

Subpart E—Nondiscrimination on the Basis of Age

15. The authority citation for subpart E continues to read as follows:

Authority: Age Discrimination Act of 1975, as amended, 42 U.S.C. 6101, et seq.; 45 CFR part 90 (1979).

16. Section 18.503 is amended by redesignating paragraphs (j) through (l) as paragraphs (k) through (m), and adding a new paragraph (j) to read as follows:

§ 18.503 Definitions.

* * * * *

(j) Program or activity means all of the operations of any entity described in paragraphs (j)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity that is established by two or more of the entities described in paragraph (j)(1), (2), or (3) of this section.

Appendix B to Subpart E to Part 18 [Amended]

17. The heading for appendix B to subpart E to part 18 is amended by removing the word “Programs”.

18. In the table below, for each section indicated in the left column, remove the text shown in the middle column and add the text shown in the right column:

Section | Remove | Add
18.501, last sentence | programs and activities | programs or activities
18.531 | programs and activities | programs or activities
18.532 | programs and activities | programs or activities
18.544(a)(2), last sentence | program |
18.546(b), first sentence | program and activity | program or activity
18.546(c)(2), first sentence | Federal |
18.549(b)(2) | program or activity | Federal financial assistance

Dated: May 4, 2001.
Anthony Principi,
Secretary, Department of Veterans Affairs.

ENVIRONMENTAL PROTECTION AGENCY

40 CFR Chapter I

RIN 2020-AA43

Authority and Issuance

For the reasons set forth in the joint preamble, EPA amends 40 CFR chapter I, part 7 as set forth below:

PART 7—NONDISCRIMINATION IN PROGRAMS OR ACTIVITIES RECEIVING FEDERAL ASSISTANCE FROM THE ENVIRONMENTAL PROTECTION AGENCY

1. The heading for part 7 is revised to read as set forth above.

2. The authority citation for part 7 is revised to read as follows:

Authority: 42 U.S.C. 2000d to 2000d-7; 29 U.S.C. 794; 33 U.S.C. 1251 nt.

3. Section 7.25 is amended by adding the new definition of “Program or activity” in alphabetical order to read as follows:

§ 7.25 Definitions.

* * * * *

Program or activity and program mean all of the operations of any entity described in paragraphs (1) through (4) of this definition, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (1), (2), or (3) of this definition.

* * * * *

§ 7.55 [Amended]

4. The heading for § 7.55 is amended by removing the word “programs” and adding, in its place, the words, “aid, benefits, or services”.

5. In § 7.65, the first sentence of paragraph (a) introductory text and the heading for paragraph (b) are revised to read as follows:

§ 7.65 Accessibility.

(a) General. A recipient shall operate each program or activity receiving EPA assistance so that when each part is viewed in its entirety it is readily accessible to and usable by handicapped persons. * * *

* * * * *

(b) Methods of ensuring compliance in existing facilities. * * *

* * * * *

Appendix A to Part 7 [Amended]

6. The heading for appendix A to part 7 is amended by removing the word “Programs” and inserting the words “Types of” immediately before the word “EPA”.

7. In the table below, for each section indicated in the left column, remove the text shown in the middle column and add the text shown in the right column:

Section | Remove | Add
7.20(a) | compliance programs | means of ensuring compliance
7.25, undesignated definition of Project Officer | program |
7.35(a)(1) | program | program or activity
7.35(a)(2) | program | program or activity
7.35(a)(3) | program | program or activity
7.35(a)(4) | program | program or activity
7.35(a)(5) | program | program or activity
7.35(a)(6) | any program | any program or activity
7.35(a)(6) | the EPA assistance program | EPA assistance
7.35(b) | program | program or activity
7.35(c) | program | program or activity
7.50(a)(1) | program | program or activity
7.50(a)(3) | program | program or activity
7.50(a)(5) | program | program or activity
7.50(b) | or benefits from |
7.50(e) | programs | aid, benefits, or services
7.55 | program | program or activity
7.55 | programs | programs or activities
7.60(a) | or benefits from |
7.60(c)(8) | social | those that are social
7.60(c)(8) | programs
7.60(d) | apprenticeship programs | apprenticeships
7.60(e) | program | program or activity
7.65(b) | offer program benefits to | serve
7.65(c)(2) first sentence, | make a program or activity accessible | comply with paragraph (a) of this section
7.65(d) | assisted program |
7.65(e), last sentence | program | statute
7.75, introductory text | program | program or activity
7.75(a)(3) | program accessibility | accessibility under § 7.65(a)
7.85(b), first sentence | programs | programs or activities
7.95(a), first sentence | programs | programs or activities
7.130(b)(4) | program | program or activity

Dated: April 30, 2001.
Christine Todd Whitman,
Administrator, Environmental Protection Agency.

GENERAL SERVICES ADMINISTRATION

41 CFR Chapter 101

RIN 3090-AH33

Authority and Issuance

For the reasons set forth in the joint preamble, GSA amends 41 CFR chapter 101, parts 101-6 and 101-8 as set forth below:

PART 101-6—MISCELLANEOUS REGULATIONS

Subpart 101-6.2—Nondiscrimination in Programs Receiving Federal Financial Assistance

1. The authority citation for subpart 101-6.2 continues to read as follows:

Authority: Sec. 602, 78 Stat. 252; 42 U.S.C. 2000d-1.

2. Section 101-6.204-3 is amended by revising the heading to read as follows:

§ 101-6.204-3 Special benefits.

* * * * *

3. Section 101-6.205-2 is amended by revising the heading to read as follows:

§ 101-6.205-2 Continuing Federal financial assistance.

* * * * *

4. Section 101-6.205-4 is amended by revising paragraph (b) to read as follows:

§ 101-6.205-4 Applicability of assurances.

* * * * *

(b) The assurance required with respect to an institution of higher education, hospital, or any other institution, insofar as the assurance relates to the institution's practices with respect to admission or other treatment of individuals as students, patients, or clients of the institution or to the opportunity to participate in the provision of services or other benefits to such individuals, shall be applicable to the entire institution.

* * * * *

5. Section 101-6.216 is amended by revising paragraph (f) to read as follows:

§ 101-6.216 Definitions.

* * * * *

(f) The terms program or activity and program mean all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of nay other corporation, partnership, private organization, or sole proprietorship; or

(4) Any other entity which is established by two or more of the entities described in paragraph (f)(1), (2), or (3) of this section.

* * * * *

6. In the table below, for each section indicated in the left column, remove the text shown in the middle column and add the text shown in the right column:

Section | Remove | Add
101-6.201 | 52 | 42
101-6.201 | 2000d-2000d-4 | 2000d-2000d-7
101-6.203(a), last sentence | programs involving
101-6.203(b) | the programs involving
101-6.203(c) | programs | types of Federal financial assistance
101-6.204-2 (a)(4), first sentence | the program | a program
101-6.204-3 | the benefits of a program | benefits
101-6.205-1(a), first sentence | to carry out a program
101-6.205-1(a), first sentence | except a program | except an application
101-6.205-1(a), fifth sentence | for each program
101-6.205-1(a), fifth sentence | in the program
101-6.205-1(b), second sentence | under a program of | with
101-6.205-1(b), third sentence | program | statute
101-6.205-1(d) | programs | Federal financial assistance
101-6.205-2 | to carry out a program involving | for
101-6.205-4(c) | under a program
101-6.206(b), second sentence | except as provided in paragraph (b) of § 101-6.205-4
101-6.206(d) | subject to the provisions of § 101-6.205-4(b)
101-6.209-2, last sentence | of any program under | in
101-6.209-4 | program under | program for
101-6.212-5, first sentence | programs | Federal statutes, authorities, or other means by which Federal financial assistance is extended and
101-6.213-6 | under the program involved | to which this regulation applies
101-6.213-6 | assistance will | assistance to which this regulation applies will
101-6.213-6 | under such program
101-6.215-1, introductory text, first sentence | under such program
101-6.216(h) | for any program,
101-6.216(h) | under any such program
101-6.216(i) | for the purpose of carrying out a program

PART 101-8—NONDISCRIMINATION IN PROGRAMS RECEIVING FEDERAL FINANCIAL ASSISTANCE

7. The heading for part 101-8 is revised to read as set forth above.

Subpart 101-8.3—Discrimination Prohibited on the Basis of Handicap

8. Section 101-8.301 is amended by adding a new paragraph (f) to read as follows:

§ 101-8.301 Definitions.

* * * * *

(f) The term program or activity means all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (f)(1), (2), or (3) of this section.

9. Section 101-8.309 is amended by revising the section heading and the heading and first sentence of paragraph (b) to read as follows:

§ 101-8.309 Accessibility.

* * * * *

(b) Accessibility. A recipient shall operate any program or activity to which this subpart applies so that when each part is viewed in its entirety it is readily accessible to and usable by handicapped persons. * * *

* * * * *

10. Section 101-8.311 is amended by revising the section heading and the heading and the first sentence of the introductory text of paragraph (b)(1) to read as follows:

§ 101-8.311 Historic Preservation Programs.

* * * * *

(b) * * * (1) Accessibility. A recipient shall operate any program or activity involving Historic Preservation Programs so that when each part is viewed in its entirety it is readily accessible to and usable by handicapped persons. * * *

* * * * *

11. In the table below, for each section indicated in the left column, remove the text shown in the middle column and add the text shown in the right column:

Section | Remove | Add
101-8.300(b) | or benefits from
101-8.302 | or benefits from
101-8.303(a)(5) | program | program or activity
101-8.303(c) | programs or activities | aid, benefits, or services
101-8.303(d)(2) | program | program or activity
101-8.303(f) | or benefitting from
101-8.303(g) | the benefits of a program | aid, benefits, or services
101-8.303(g) | from a program | from aid, benefits, or services
101-8.303(h), first sentence | programs and activities | programs or activities
101-8.305(c), last sentence | apprenticeship programs | apprenticeships
101-8.305(d)(8) | social | those that are social
101-8.305(d)(8) | programs
101-8.306(a) | program | program or activity
101-8.306(c), introductory text | program | program or activity
101-8.306(c)(1) | program | program or activity
101-8.309(a) | or benefits from
101-8.309(c), last sentence | offer programs and activities to | serve
101-8.309(f)(3) | program accessibility | accessibility under paragraph (a) of this section
101-8.311(a), introductory text | the term
101-8.311(a)(1) | preservation programs | Preservation Programs
101-8.311(a)(1) | means programs receiving | are those that receive
101-8.311(b)(1), introductory text, last sentence | program
101-8.311(b)(1)(iv) | program accessibility | accessibility
101-8.311(b)(1), concluding paragraph | historic preservation program | Historic Preservation Program
101-8.311(b)(1), concluding paragraph | program accessibility | accessibility
101-8.311(b)(2), introductory text | program
101-8.311(b)(2)(iii) | program | program or activity

Subpart 101-8.7—Discrimination Prohibited on the Basis of Age

12. The authority citation for subpart 101-8.7 continues to read as follows:

Authority: 42 U.S.C. 6101 et seq.

13. Section 1101-8.703 is amended by redesignating paragraph (k) as paragraph (l) and by adding a new paragraph (k) to read as follows:

§ 101-8.703 Definitions of terms.

* * * * *

(k) Program or activity means all of the operations of any entity described in paragraphs (k)(1) through (4) of this section, any part of which is extended Federal financial assistance:

(1)(i) A department, agency, special purpose district, or other instrumentality of a state or of a local government;

(ii) The entity of such state and local government that distributes such assistance and each such department or agency (and each other state or local government entity) to which the assistance is extended, in the case of assistance to a state or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (k)(1), (2), or (3) of this section.

* * * * *

14. In the table below, for each section indicated in the left column, remove the text shown in the middle column and add the text shown in the right column:

Section | Remove | Add
101-8.701, last sentence | Federal financial assistance | Federally assisted
101-8.701, last sentence | programs and activities | programs or activities
101-8.702(a) | that benefits from GSA Federal financial assistance
101-8.703(g)(2) | program | policy
101-8.703(j) | for the purpose of carrying out a program
101-703(l) | for any program
101-8.703(l) | under any such program
101-8.709 | program | program or activity
101-8.710, first sentence | program | program or activity
101-8.710, second sentence | programs
101-8.710, second sentence | provide | provides
101-8.710, last sentence | “Child Care Center” program | Child Care Center Program
101-8.710, last sentence | two programs | two types of Federal financial assistance
101-8.711, first sentence | programs and activities | programs or activities
101-8.712(b) | program
101-8.718(a), third sentence | program
101-8.720(b), first sentence | program and activity | program or activity
101-8.720(c)(2), first sentence | Federal
101-8.721(e), first sentence | programs | Federal statutes, authorities, or other means by which Federal financial assistance is extended and
101-8.725(b) | program or activity | Federal financial assistance

Dated: February 26, 2003.
Stephen A. Perry,
Administrator, General Services Administration.

DEPARTMENT OF THE INTERIOR

43 CFR Subtitle A

RIN 1090-AA77

Authority and Issuance

For the reasons set forth in the joint preamble, DOI amends 43 CFR subtitle A, part 17 as set forth below:

PART 17—NONDISCRIMINATION IN FEDERALLY ASSISTED PROGRAMS OF THE DEPARTMENT OF THE INTERIOR

Subpart A—Nondiscrimination on the Basis of Race, Color, or National Origin

1. The authority citation for subpart A continues to read as follows:

Authority: Sec. 602, 78 Stat. 252; 42 U.S.C. 2000d-1; and the laws referred to in Appendix A.

2. Section 17.3 is amended by revising the heading of paragraph (d) to read as follows:

§ 17.3 Discrimination prohibited.

* * * * *

(d) Benefits for Indians, natives of certain territories, and Alaska natives. * * *

3. Section 17.4 is amended by revising the heading of paragraph (b) and paragraph (d)(2) to read as follows:

§ 17.4 Assurances required.

* * * * *

(b) Continuing Federal financial assistance. * * *

* * * * *

(d) * * *

(2) The assurance required with respect to an institution of higher education, or any other institution, insofar as the assurance relates to the institution's practices with respect to admission or other treatment of individuals as students, or clients of the institution or to the opportunity to participate in the provision of services or other benefits to such individuals, shall be applicable to the entire institution.

4. Section 17.12 is amended by revising paragraph (f) to read as follows:

§ 17.12 Definitions.

* * * * *

(f) The terms program or activity and program mean all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (f)(1), (2), or (3) of this section.

* * * * *

Appendix B to Subpart A [Amended]

5. The introductory text for appendix B to subpart A is amended by removing the word “programs” and adding, in its place, the words “Federal financial assistance.”

6. In the table below, for each section indicated in the left column, remove the text shown in the middle column and add the text shown in the right column:

Section | Remove | Add
17.2(a), second sentence | under any such program
17.2(a)(2) | under any such program
17.2(a)(3) | under any such program
17.3(b)(1), introductory text | under any program
17.3(c)(1), first sentence | a program of | the
17.3(c)(1), first sentence | assistance | assistance to a program
17.3(d), first sentence | the benefits of a program | benefits
17.3(d), first sentence | is limited | are limited
17.3(d), first sentence | the program is addressed | the benefits are addressed
17.3(d), last sentence | programs | benefits
17.4(a)(1), first sentence | to carry out a program
17.4(a)(1), first sentence | except a program | except an application
17.4(a)(1), second sentence | program of | award of
17.4(a)(1), sixth sentence | for each program,
17.4(a)(1), sixth sentence | in the program
17.4(a)(2), second sentence | under a program of | with
17.4(a)(2), third sentence | program | statute
17.4(b)(1), introductory text | to carry out a program involving | for
17.4(d)(1) | a student assistance program | student assistance
17.5(b), last sentence | of any program under | in
17.5(d) | program under which | program for which
17.8(e), first sentence | programs | Federal statutes, authorities, or other means by which Federal financial assistance is extended and
17.9(g) | under the program involved | to which this regulation applies
17.9(g) | assistance will | assistance to which this regulation applies will
17.9(g) | under such program
17.11(a), first sentence | under such program
17.12(h) | for any program,
17.12(h) | under such program
17.12(i) | for the purpose of carrying out a program

Subpart B—Nondiscrimination on the Basis of Handicap

7. The authority citation for subpart B continues to read as follows:

Authority: 29 U.S.C. 794.

8. Section 17.202 is amended by adding a new paragraph (q) to read as follows:

§ 17.202 Definitions.

* * * * *

(q) Program or activity means all of the operations of any entity described in paragraphs (q)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (q)(1), (2), or (3) of this section.

9. Section 17.203 is amended by revising the heading of paragraph (c) to read as follows:

§ 17.203 Discrimination prohibited.

* * * * *

(c) Aid, benefits, or services limited by Federal law. * * *

* * * * *

10. The heading for § 17.216 is revised to read as follows:

§ 17.216 Accessibility.

* * * * *

11. Section 17.217 is amended by revising the heading and first sentence of paragraph (a) to read as follows:

§ 17.217 Existing facilities.

(a) Accessibility. A recipient shall operate each program or activity so that when each part is viewed in its entirety it is readily accessible to and usable by handicapped persons. * * *

* * * * *

12. Section 17.260 is amended by revising the section heading, the introductory text of paragraph (a), and the first sentence of paragraph (b)(1) introductory text to read as follows:

§ 17.260 Historic Preservation Programs.

(a) Definitions. For the purposes of this section, Historic Preservation Programs are those that receive Federal financial assistance that has preservation of historic properties as a primary purpose.

* * * * *

(b) * * *

(1) A recipient shall operate any program or activity involving Historic Preservation Programs so that when each part is viewed in its entirety it is readily accessible to and usable by handicapped persons. * * *

* * * * *

13. The section heading and the introductory text of § 17.270 are revised to read as follows:

§ 17.270 Recreation.

This section applies to recipients that operate, or that receive Federal financial assistance for the operation of programs or activities involving recreation.

* * * * *

14. In the table below, for each section indicated in the left column, remove the text shown in the middle column and add the text shown in the right column:

Section | Remove | Add
17.201 | or benefits from |
17.202(i) | recreation and program spaces | spaces, including those used for recreation,
17.202(m) | programs | the recipient
17.202(m) | should be available | should make its aid, benefits, or services available
17.202(n) | programs | programs or activities
17.203(a) | or benefits from |
17.203(b)(1)(v) | program | program or activity
17.203(b)(3) | programs or activities | aid, benefits, or services
17.203(b)(4)(ii) | program | program or activity
17.203(b)(5)(i) | or benefits from |
17.203(b)(6) | or benefiting from |
17.203(c) | the benefits of a program | aid, benefits, or services
17.203(c) | from a program | from aid, benefits, or services
17.204(a), first sentence | for a program or activity |
17.204(a), first sentence | the program | the program or activity
17.204(c)(4), first sentence | to carry out a program involving | for
17.204(c)(4)(i) | program | program or activity
17.204(c)(4)(ii) | the program | the program or activity
17.204(c)(4)(ii) | under such program |
17.205(a)(3)(i) | program | program or activity
17.205(a)(3)(ii) | program | program or activity
17.207(a), second sentence | programs and activities | programs or activities
17.210(a)(2) | programs | programs or activities
17.210(a)(4), last sentence | apprenticeship programs | apprenticeships
17.210(b)(8) | social | those that are social
17.210(b)(8) | programs |
17.211(a) | program | program or activity
17.211(c), introductory text | program | program or activity
17.211(c)(1) | program | program or activity
17.217(b), last sentence | offer programs and activities to | serve
17.217(e)(3) | program accessibility | accessibility under paragraph (a) of this section
17.220, first sentence | programs and activities | programs or activities
17.220, first sentence | or benefit from |
17.232, first sentence | programs and activities | programs or activities
17.232, first sentence | or benefit from |
17.250, introductory text | programs and activities | programs or activities
17.250, introductory text | or benefit from |
17.252, first sentence | activity for | activity that provides aid, benefits, or services for
17.260(b)(1), introductory text, last sentence | program |
17.260(b)(1)(iv) | program
17.260(b)(1), concluding text | historic preservation program | Historic Preservation Program
17.260(b)(1), concluding text | program accessibility | accessibility
17.260(b)(2), introductory text, first sentence | program |
17.260(b)(2), introductory text, last sentence | program |
17.260(b)(2)(iii) | program | program or activity
17.270(a)(1) | programs | aid, benefits, or services
17.270(a)(2) | programs or activities | aid, benefits, or services
17.270(a)(5) | program or activity | aid, benefits, or services

Subpart C—Nondiscrimination on the Basis of Age

15. The authority citation for subpart C continues to read as follows:

Authority: Age Discrimination Act of 1975, as amended, 42 U.S.C. 6101 et seq.; 45 CFR part 90.

16. The heading of § 17.302 is revised to read as follows:

§ 17.302 To what programs or activities do these regulations apply?

* * * * *

17. Section 17.303 is amended by redesignating paragraphs (j) through (m) as paragraphs (k) through (n) and adding a new paragraph (j) to read as follows:

§ 17.303 Definitions.

* * * * *

(j) Program or activity means all of the operations of any entity described in paragraphs (j)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (j)(1), (2), or (3) of this section.

* * * * *

18. In the table below, for each section indicated in the left column, remove the text shown in the middle column and add the text shown in the right column:

Section | Remove | Add
17.300, first sentence | programs and activities | programs or activities
17.300, last sentence | programs and activities | programs or activities
17.301, last sentence | programs and activities | programs or activities
17.302(a) | or benefits from |
17.313 | program | program or activity
17.314 | program | program or activity
17.320, first sentence | programs and activities | programs or activities
17.321(b) | program |
17.333(a)(2), last sentence | program |
17.335(c)(2), first sentence | Federal |
17.338(b)(2) | program or activity | Federal financial assistance

Dated: October 11, 2002.
P. Lynn Scarlett,
Assistant Secretary—Policy, Management, and Budget, Department of the Interior.

DEPARTMENT OF HOMELAND SECURITY

Federal Emergency Management Agency

44 CFR Chapter I

RIN 1660-AA12

Authority and Issuance

For the reasons set forth in the joint preamble, FEMA amends 44 CFR chapter I, part 7 as set forth below:

PART 7—NONDISCRIMINATION IN FEDERALLY-ASSISTED PROGRAMS (FEMA REG. 5)

1. The heading for subpart A is revised to read as follows:

Subpart A—Nondiscrimination in FEMA-Assisted Programs—General

2. The authority citation for subpart A continues to read as follows:

Authority: FEMA Reg. 5 issued under sec. 602, 78 Stat. 252; 42 U.S.C. 2000d-1; 42 U.S.C. 1855-1885g; 50 U.S.C. 404.

3. Section 7.2 is amended by revising paragraph (d) to read as follows:

§ 7.2 Definitions.

* * * * *

(d) The terms program or activity and program mean all of the operations of any entity described in paragraphs (d)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (d)(1), (2), or (3) of this section.

* * * * *

4. Section 7.3 is revised to read as follows:

§ 7.3 Application of this regulation.

No person in the United States shall, on the ground of race, color, or national origin, be excluded from participation in, be denied the benefits of, or be otherwise subjected to discrimination under any program to which this regulation applies.

5. Section 7.9 is amended by revising paragraph (b) to read as follows:

§ 7.9 Assurances from institutions.

* * * * *

(b) The assurances required with respect to an institution of higher education, hospital, or any other institution, insofar as the assurance relates to the institution's practices with respect to admission or other treatment of individuals as students, patients, or clients of the institutions or to the opportunity to participate in the provision of services or other benefits to such individuals, shall be applicable to the entire institution.

6. In the table below, for each section indicated in the left column, remove the text shown in the middle column and add the text shown in the right column:

Section | Remove | Add
7.2(f) | for any program,
7.2(f) | under any such program
7.2(g) | for the purpose of carrying out a program
7.4, second sentence | under any such program
7.4(b) | under any such program
7.4(c) | under any such program
7.5(a), introductory text | under any program
7.7, first sentence | to carry out a program
7.7, fifth sentence | for each program,
7.7, fifth sentence | in the program
7.10(b), last sentence | of any program under | in
7.10(d) | program under which | program for which
7.13(e), first sentence | programs | Federal statutes, authorities, or other means by which Federal financial assistance is extended and
7.14(f) | under the program involved | to which this regulation applies
7.14(f) | assistance will | assistance to which this regulation applies will
7.14(f) | under such program
7.16(a), first sentence | under such program

7. The heading for subpart E is revised to read as follows:

Subpart E—Nondiscrimination on the Basis of Age in Programs or Activities Receiving Federal Financial Assistance From FEMA

8. The authority citation for subpart E is revised to read as follows:

Authority: Age Discrimination Act of 1975, as amended (42 U.S.C. 6101 et seq.); 45 CFR part 90.

9. The heading for § 7.912 is revised to read as follows:

§ 7.912 To what programs or activities does this regulation apply?

* * * * *

10. Section 7.913 is amended by adding, in alphabetical order, a definition of “Program or activity” to read as follows:

§ 7.913 Definition of terms used in this regulation.

* * * * *

Program or activity means all of the operations of any entity described in paragraphs (1) through (4) of this definition, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (1), (2), or (3) of this definition.

* * * * *

11. In the table below, for each section indicated in the left column, remove the text shown in the middle column and add the text shown in the right column:

Section | Remove | Add
7.910 | programs and activities | programs or activities
7.911, last sentence | programs, activities | programs or activities
7.912(a) | or benefits from |
7.925 | program | program or activity
7.926 | program | program or activity
7.930, first sentence | programs and activities | programs or activities
7.931(b) | program |
7.943(a)(2), last sentence | program |
7.945(b), first sentence | program and activity | program or activity
7.945(c)(2), first sentence | Federal |
7.948(b)(2) | program or activity | Federal financial assistance

Dated: May 8, 2003.
Michael D. Brown,
Under Secretary, Emergency Preparedness and Response.

NATIONAL SCIENCE FOUNDATION

45 CFR Chapter VI

RIN 3145-AA38

Authority and Issuance

For the reasons set forth in the joint preamble, NSF amends 45 CFR chapter VI, parts 605, 611, and 617 as set forth below:

PART 605—NONDISCRIMINATION ON THE BASIS OF HANDICAP IN PROGRAMS OR ACTIVITIES RECEIVING FEDERAL FINANCIAL ASSISTANCE

1. The heading for part 605 is revised to read as set forth above.

2. The authority citation for part 605 continues to read as follows:

Authority: 29 U.S.C. 794.

3. Section 605.3 is amended by adding a new paragraph (m) to read as follows:

§ 605.3 Definitions.

* * * * *

(m) Program or activity means all of the operations of any entity described in paragraphs (m)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (m)(1), (2), or (3) of this section.

§ 605.4 [Amended]

4. In § 605.4, the heading of paragraph (c) is amended by removing the word “Programs” and adding, in its place, the words “Aid, benefits, or services”.

Subpart C to Part 605—[Amended]

5. The heading for subpart C is amended by removing the word “Program”.

6. In § 605.22, the heading and first sentence of paragraph (a) are revised to read as follows:

§ 605.22 Existing facilities.

(a) Accessibility. A recipient shall operate each program or activity to which this part applies so that when each part is viewed in its entirety it is readily accessible to qualified handicapped persons. * * *

* * * * *

§ 605.38 [Amended]

7. The heading for § 605.38 is amended by removing the word “programs”.

§ 605.39 [Amended]

8. The heading for § 605.39 is amended by removing the word “programs”.

9. In the table below, for each section indicated in the left column, remove the text shown in the middle column and add the text shown in the right column:

Section | Remove | Add
605.0, first sentence | programs and activities | programs or activities
605.2 | or benefits from
605.3(k)(5), second sentence | programs | aid, benefits, or services
605.3(k)(5), third sentence | program
605.4(a) | or benefits from
605.4(b)(1)(v) | recipients program | recipient's program or activity
605.4(b)(3) | programs or activities | aid, benefits, or services
605.4(b)(4)(ii) | program | program or activity
605.4(b)(5)(i) | or benefits from
605.4(b)(6) | or benefiting from
605.4(c) | the benefits of a program | aid, benefits, or services
605.4(c) | from a program | from aid, benefits or services
605.5(a) | under a program or activity
605.5(a) | programs | programs or activities
605.6(a)(3)(i) | program | program or activity
605.6(a)(3)(ii) | program | program or activity
605.8(a), second sentence | programs and activities | programs or activities
605.11(a)(2) | programs | programs or activities
605.11(a)(4), last sentence | apprenticeship programs | apprenticeships
605.11(b)(8) | social | those that are social
605.11(b)(8) | programs
605.12(a) | program | program or activity
605.12(c), introductory text | program | program or activity
605.12(c)(1) | program | program or activity
605.22(b), last sentence | offer programs and activities to | serve
605.22(e)(3) | program accessibility | accessibility under paragraph (a) of this section
605.31 | programs and activities | programs or activities
605.31 | or benefit from
605.33(b)(2) | individualized education program | Individualized Education Program
605.33(b)(3), first sentence | in
605.33(b)(3), first sentence | to a program | for aid, benefits, or services
605.33(b)(3), first sentence | the one | those
605.33(b)(3), first sentence | operates | operates or provides
605.33(c)(1), second sentence | in
605.33(c)(1), second sentence | to a program | for aid, benefits, or services
605.33(c)(1), second sentence | operated | operated or provided
605.33(c)(1), second sentence | program | aid, benefits, or services
605.33(c)(2) | person in | person
605.33(c)(2) | to a program | for aid, benefits, or services
605.33(c)(2) | operated | operated or provided
605.33(c)(2) | the program | the aid, benefits, or services
605.33(c)(3) | placement in
605.33(c)(3) | program | placement
605.33(c)(4), last sentence | such a program | a free appropriate public education
605.35(a) | program | program or activity
605.35(a) | a regular or special education program | regular or special education
605.37(c)(1), first sentence | programs and activities | aid, benefits, or services
605.37(c)(1), last sentence | in these activities
605.38 | operates a | provides
605.38 | day care program or activity | day care
605.38 | an adult education program or activity | adult education
605.38 | from the program or activity
605.38 | under the program or activity
605.39(a) | operates a | provides
605.39(a) | education program | education
605.39(a) | from such program
605.39(a) | the recipient's program | that recipient's program or activity
605.39(c), first sentence | operates | provides
605.39(c), first sentence | programs shall operate such programs | shall do so
605.41 | programs and activities | programs or activities
605.41 | or benefit from
605.43(a) | program or activity | aid, benefits, or services
605.43(d) | programs and activities | program or activity
605.44(a), second sentence | program of
605.44(c) | in its program
605.47(a)(1), first sentence | programs and activities | aid, benefits, or services
605.51 | programs and activities | programs or activities
605.51 | or benefit from
605.54, first sentence | activity for | activity that provides aid, benefits, or services for

PART 611—NONDISCRIMINATION IN FEDERALLY-ASSISTED PROGRAMS OF THE NATIONAL SCIENCE FOUNDATION—EFFECTUATION OF TITLE VI OF THE CIVIL RIGHTS ACT OF 1964

10. The authority citation for part 611 continues to read as follows:

Authority: Sec. 11(a), National Science Foundation Act of 1950, as amended, 42 U.S.C. 1870(a); 42 U.S.C. 2000d-1.

11. Section 611.4 is amended by revising paragraph (c)(2) to read as follows:

§ 611.4 Assurances required.

* * * * *

(c) * * *

(2) The assurance required with respect to an institution of higher education, hospital, or any other institution, insofar as the assurance relates to the institution's practices with respect to admission or other treatment of individuals as students, patients, or clients of the institution or to the opportunity to participate in the provision of services or other benefits to such individuals, shall be applicable to the entire institution.

12. Section 611.5 is amended by revising the example 2. to read as follows:

§ 611.5 Illustrative applications.

* * * * *

2. In a research, training, or other grant to a university for activities to be conducted in a graduate school, discrimination in the admission and treatment of students in the graduate school is prohibited, and the prohibition extends to the entire university.

* * * * *

13. Section 611.13 is amended by revising paragraph (f) to read as follows:

§ 611.13 Definitions.

* * * * *

(f) The terms program or activity and program mean all of the operations of any entity described in paragraphs (f)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (f)(1), (2), or (3) of this section.

* * * * *

14. In the table below, for each section indicated in the left column, remove the text shown in the middle column and add the text shown in the right column:

Section | Remove | Add
611.2, first sentence | Federally-assisted programs and activities | types of Federal financial assistance
611.2, second sentence | under any such program
611.2(b) | under any such program
611.2(c) | under any such program
611.2, penultimate sentence | program or activity | type of Federal financial assistance
611.2, penultimate sentence | such program | a program
611.2, last sentence | programs | types of Federal financial assistance
611.3(b)(1), introductory text | under any program
611.3(c)(2) | Programs | Types of Federal financial assistance
611.4(a)(1), first sentence | to carry out a program
611.4(a)(1), fourth sentence | for each program
611.4(a)(1), fourth sentence | in the program
611.4(a)(2), second sentence | under a program of | with
611.4(a)(2), third sentence | program | statute
611.5, introductory text, first sentence | programs of | programs aided by
611.5, example 1., first sentence | In programs for | For
611.5, example 4., first sentence | grant programs | grants
611.6(b), last sentence | of any program under | in
611.6(d) | program under | program for
611.9(e), first sentence | programs | Federal statutes, authorities, or other means by which Federal financial assistance is extended and
611.10(f) | under the program involved | to which this regulation applies
611.10(f) | assistance will | assistance to which this regulation applies will
611.10(f) | under such program
611.12(a), first sentence | under such program
611.13(h) | for any program,
611.13(h) | under any such program
611.13(i) | for the purpose of carrying out a program

PART 617—NONDISCRIMINATION ON THE BASIS OF AGE IN PROGRAMS OR ACTIVITIES RECEIVING FEDERAL FINANCIAL ASSISTANCE FROM NSF

15. The authority citation for part 617 continues to read as follows:

Authority: Age Discrimination Act of 1975, as amended, 42 U.S.C. 6101, et seq.; 45 CFR part 90.

§ 617.2 [Amended]

16. In § 617.2, the list is amended by adding, in alphabetical order, the term “Program or activity.”

17. In the table below, for each section indicated in the left column, remove the text shown in the middle column and add the text shown in the right column:

Section | Remove | Add
617.1, last sentence | programs and activities | programs or activities
617.8, first sentence | program or activities | program or activity
617.11(a)(2), last sentence | program
617.12(a), first sentence | under | for
617.12(c), first sentence | program | program or activity
617.12(e), first sentence | Federal
617.12(f)(2)(ii) | program or activity | Federal financial assistance

Dated: April 26, 2001.
Lawrence Rudolph,
General Counsel, National Science Foundation.

NATIONAL FOUNDATION ON THE ARTS AND THE HUMANITIES

45 CFR Chapter XI

RIN 3135-AA17, RIN 3136-AA24, RIN 3137-AA11

Authority and Issuance

For the reasons set forth in the joint preamble, NFAH, composed of the National Endowment for the Arts, the National Endowment for the Humanities, and the Institute of Museum and Library Services, amends 45 CFR chapter XI, part 1110, as set forth below:

PART 1110—NONDISCRIMINATION IN FEDERALLY ASSISTED PROGRAMS

1. The authority citation for part 1110 is revised to read as follows:

Authority: 42 U.S.C. 2000d-2000d-7.

2. Section 1110.4 is amended by revising the heading of paragraph (b) and paragraph (d)(2) to read as follows:

§ 1110.4 Assurances required.

* * * * *

(b) Continuing Federal financial assistance * * *

* * * * *

(d) * * *

(2) The assurance required with respect to an institution of higher education or any other institution, insofar as the assurance relates to the institution's practices with respect to admission or other treatment of individuals as students, or clients of the institution or to the opportunity to participate in the provision of services or other benefits to such individuals, shall be applicable to the entire institution.

3. Section 1110.5 is amended by revising paragraph (a) to read as follows:

§ 1110.5 Illustrative applications.

* * * * *

(a) In a research, training, or other grant to a university for activities to be conducted in a graduate school, discrimination in the admission and treatment of students in the graduate school is prohibited, and the prohibition extends to the entire university.

* * * * *

4. Section 1110.13 is amended by revising paragraph (g) to read as follows:

§ 1110.13 Definitions.

* * * * *

(g) Program or activity and program mean all of the operations of any entity described in paragraphs (g)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

5. In the table below, for each section indicated in the left column, remove the text shown in the middle column and add the text shown in the right column:

Section | Remove | Add
1110.2, first sentence | federally assisted programs and activities | types of Federal financial assistance
1110.2, second sentence | under any such program
1110.2, fifth sentence | program or activity | type of Federal financial assistance
1110.2, fifth sentence | that such program | that a program
1110.2, last sentence | programs | types of Federal financial assistance
1110.4(a)(1), first sentence | to carry out a program
1110.4(a)(1), third sentence | for each program
1110.4(a)(1), third sentence | in the program
1110.4(a)(2), first sentence | through a program of | with
1110.4(a)(2), second sentence | under a program of | with
1110.4(a)(2), third sentence | program | statute
1110.4(b) | to carry out a program involving | for
1110.6(b), last sentence | of any program under | in
1110.6(d) | program under which | program for which
1110.9(e), first sentence | programs | Federal statutes, authorities, or other means by which Federal financial assistance is extended and
1110.10(f) | under the program involved | to which this regulation applies
1110.10(f) | assistance will | assistance to which this regulation applies will
1110.10(f) | under such program
1110.13(i) | for any program,
1110.13(i) | under any such program
1110.13(j) | for the purposes of carrying out a program

Dated: January 16, 2003.
Karen Elias,
Deputy General Counsel, National Endowment for the Arts, National Foundation on the Arts and the Humanities.
Dated: January 17, 2003.
Daniel Schneider,
General Counsel, National Endowment for the Humanities, National Foundation on the Arts and the Humanities.
Dated: January 16, 2003.
Nancy E. Weiss,
General Counsel, Institute of Museum and Library Services, National Foundation on the Arts and the Humanities.

NATIONAL FOUNDATION ON THE ARTS AND THE HUMANITIES

National Endowment for the Arts

45 CFR Chapter XI

RIN 3135-AA17

Authority and Issuance

For the reasons set forth in the joint preamble, NEA amends 45 CFR chapter XI, parts 1151 and 1156, as set forth below:

PART 1151—NONDISCRIMINATION ON THE BASIS OF HANDICAP

1. The authority citation for part 1151 continues to read as follows:

Authority: 29 U.S.C. 794.

2. Section 1151.3 is amended by adding a new paragraph (h) to read as follows:

§ 1151.3 Definitions.

* * * * *

(h) Program or activity means all of the operations of any entity described in paragraphs (h)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

§ 1151.21 [Amended]

3. The undesignated center heading immediately preceding § 1151.21 is amended by removing the word “Program”.

4. Section 1151.22 is amended by revising the first sentence of paragraph (a) to read as follows:

§ 1151.22 Existing facilities.

(a) A recipient shall operate each program or activity to which this part applies so that when each part is viewed in its entirety it is readily accessible to and usable by handicapped persons. * * *

* * * * *

5. In the table below, for each section indicated in the left column, remove the text shown in the middle column and add the text shown in the right column:

Section | Remove | Add
1151.2 | or benefits from
1151.4(a), second sentence | programs and activities | programs or activities
1151.16(a) | or benefits from
1151.16(b) | the benefits of a program | aid, benefits, or services
1151.16(c) | program | program or activity
1151.16(c) | or benefiting from
1151.16(e) | programs and activities | programs or activities
1151.17(a), introductory text | benefit, service, or program | benefit, or service
1151.17(a)(1) | program,
1151.17(a)(5) | program | program or activity
1151.17(b) | programs or activities | aid, benefits, or services
1151.17(c)(2) | program | program or activity
1151.17(d)(1) | or benefits from
1151.17(e) | or benefiting from
1151.18(a)(3) | for a specific program offered | and offering, for example, a specific event
1151.18(a)(3) | that program | that specific event
1151.18(b) | programs | aid, benefits, or services
1151.18(d) | benefits of the programs and activities | aid, benefits, or services
1151.18(d) | programs and activities | aid, benefits, or services
1151.18(e) | programs and activities | programs or activities
1151.22(b), last sentence | offer programs and activities to | serve
1151.22(c) | to make programs or, activities in existing facilities accessible
1151.22(d)(3) | program accessibility | accessibility under paragraph (a) of this section
1151.31(a) | or benefits from
1151.31(c), last sentence | apprenticeship programs | apprenticeships
1151.31(d)(8) | social | those that are social
1151.31(d)(8) | programs
1151.32(a) | program | program or activity
1151.32(c), introductory text | program | program or activity
1151.32(c)(1) | program | program or activity
1151.41(a), first sentence | for a program or activity
1151.41(a), first sentence | the program | the program or activity

PART 1156—NONDISCRIMINATION ON THE BASIS OF AGE

6. The authority citation for part 1156 continues to read as follows:

Authority: 42 U.S.C. 6101 et seq.; 45 CFR part 90.

§ 1156.2 [Amended]

7. Section 1156.2 is amended by removing the words “and to each program or activity that receives or benefits from such assistance” in paragraph (a).

8. Section 1156.3 is amended by redesignating paragraphs (h) through (n) as paragraphs (i) through (o), respectively; and by adding a new paragraph (h) to read as follows:

§ 1156.3 Definitions.

* * * * *

(h) Program or activity means all of the operations of any entity described in paragraphs (h)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (h)(1), (2), or (3) of this section.

* * * * *

9. In the table below, for each section indicated in the left column, remove the text shown in the middle column and add the text shown in the right column:

Section | Remove | Add
1156.1, last sentence | programs and activities | programs or activities
1156.7(c) | program | program or activity
1156.10, first sentence | programs and activities | programs or activities
1156.17(a)(2), last sentence | program
1156.19(c)(2), first sentence | Federal
1156.20(b)(2) | program or the activity | Federal financial assistance

Dated: April 17, 2001.
Karen Elias,
Deputy General Counsel, National Endowment for the Arts.

NATIONAL FOUNDATION ON THE ARTS AND THE HUMANITIES

National Endowment for the Humanities

45 CFR Chapter XI

RIN 3136-AA24

Authority and Issuance

For the reasons set forth in the joint preamble, NEH amends 45 CFR chapter XI, part 1170 as set forth below:

PART 1170—NONDISCRIMINATION ON THE BASIS OF HANDICAP IN FEDERALLY ASSISTED PROGRAMS OR ACTIVITIES

1. The heading for part 1170 is revised to read as set forth above.

2. The authority citation for part 1170 continues to read as follows:

Authority: 29 U.S.C. 794.

3. Section 1170.3 is amended by revising paragraph (g) to read as follows:

§ 1170.3 Definitions.

* * * * *

(g) The term program or activity means all of the operations of any entity described in paragraphs (g)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (g)(1), (2), or (3) of this section.

* * * * *

Subpart D to Part 1170—[Amended]

4. The heading for subpart D is amended by removing the word “Program”.

5. Section 1170.32 is amended by revising the heading and first sentence of paragraph (a) to read as follows:

§ 1170.32 Existing facilities.

(a) Accessibility. A recipient shall operate each program or activity to which this part applies so that when each part is viewed in its entirety it is readily accessible to handicapped persons. * * *

* * * * *

6. In the table below, for each section indicated in the left column, remove the text shown in the middle column and add the text shown in the right column:

Section | Remove | Add
1170.2 | or benefits from
1170.3(a) | and
1170.3(a) | 95-602 | 95-602, and by the Civil Rights Restoration Act of 1987, Pub. L. 100-259
1170.3(d) | program | program or activity
1170.11 | or benefits from
1170.12(a)(5) | program | program or activity
1170.12(b) | programs or activities | aid, benefits, or services
1170.12(c)(2) | program | program or activity
1170.12(d)(1) | or benefits from
1170.12(e) | the benefits of a program | aid, benefits, or services
1170.12(e) | from a program | from aid, benefits, or services
1170.12(f) | programs and activities | programs or activities
1170.13(a)(3) | programs | aid, benefits, or services
1170.13(a)(3) | program | aid, benefit, or service
1170.13(a)(4), first sentence | of a program's
1170.13(c) | the programs and activities | the program or activity
1170.13(c) | museum programs and activities | museum aid, benefits, or services
1170.13(d) | programs and activities | programs or activities
1170.21(a) | or benefits from
1170.21(c), last sentence | apprenticeship programs | apprenticeships
1170.21(d)(8) | social | those that are social
1170.21(d)(8) | programs
1170.22(a) | program | program or activity
1170.22(c), introductory text | program | program or activity
1170.22(c)(1) | program | program or activity
1170.32(b), last sentence | offer program and activities to | serve
1170.32(d)(3) | program accessibility | accessibility under paragraph (a) of this section
1170.41 | programs and activities | programs or activities
1170.41 | or benefit from
1170.43(a) | program or activity | aid, benefit, or service
1170.43(d) | programs and activities | program or activity
1170.44(a), second sentence | program of
1170.44(c), | in its program
1170.44(d)(1) | under the education program or activity operated by the recipient
1170.47(a)(1), first sentence | programs and activities | aid, benefits, or services
1170.51(a), first sentence | for a program or activity
1170.51(a), first sentence | the program | the program or activity
1170.52(a)(3)(i) | program | program or activity
1170.52(a)(3)(ii) | program | program or activity
1170.54(a), second sentence | programs and activities | programs or activities

Dated: January 17, 2003.
Daniel Schneider,
General Counsel, National Endowment for the Humanities.

CORPORATION FOR NATIONAL AND COMMUNITY SERVICE

45 CFR Chapter XII

RIN 3045-AA29

Authority and Issuance

For the reasons set forth in the joint preamble, the Corporation amends 45 CFR chapter XII, parts 1203 and 1232 as set forth below:

PART 1203—NONDISCRIMINATION IN FEDERALLY ASSISTED PROGRAMS—EFFECTUATION OF TITLE VI OF THE CIVIL RIGHTS ACT OF 1964

1. The authority citation for part 1203 continues to read as follows:

Authority: Sec. 602, 78 Stat. 252; 42 U.S.C. 2000d-1.

2. Section 1203.3 is amended by revising paragraph (e) to read as follows:

§ 1203.3 Definitions.

* * * * *

(e) Program or activity and program mean all of the operations of any entity described in paragraphs (e)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (e)(1), (2), or (3) of this section.

* * * * *

3. Section 1203.5 is amended by revising paragraph (b), paragraph (c)(2), and the heading of paragraph (d) to read as follows:

§ 1203.5 Assurances required.

* * * * *

(b) Assurances from Government agencies. In the case of an application from a department, agency, or office of a State or local government for Federal financial assistance for a specified purpose, the assurance required by this section shall extend to any other department, agency, or office of the same governmental unit if the policies of the other department, agency, or office will substantially affect the project for which Federal financial assistance is requested.

(c) * * *

(2) The assurance required by an academic institution, detention or correctional facility, or any other institution or facility, relating to the institution's practices with respect to admission or other treatment of individuals as students, patients, wards, inmates, persons subject to control, or clients of the institution or facility or to the opportunity to participate in the provision of services, disposition, treatment, or benefits to these individuals, is applicable to the entire institution or facility.

(d) Continuing Federal financial assistance. * * *

* * * * *

Appendix A to Part 1203 [Amended]

4. The heading for appendix A to part 1203 is amended by removing the word “Programs” and adding, in its place, the words “Federal Financial Assistance”.

Appendix B to Part 1203 [Amended]

5. The heading for appendix B to part 1203 is amended by removing the word “Programs” and adding, in its place, the words “Federal Financial Assistance”.

6. In the table below, for each section indicated in the left column, remove the text shown in the middle column and add the text shown in the right column:

Section | Remove | Add
1203.2(a), introductory text, first sentence | federally assisted programs | types of Federal financial assistance
1203.2(a), introductory text, second sentence | under a program |
1203.2(a)(2) | under a program |
1203.2(a)(3) | under a program |
1203.2(a), concluding text, first sentence | a program | a type of Federal financial assistance
1203.2(a), concluding text, first sentence | the program | a program
1203.2(a)(4) concluding text last sentence | programs | types of Federal financial assistance
1203.2(b) | as part of the program receiving that assistance |
1203.3(d) | for the purpose of carrying out a program |
1203.3(f) | for any program, |
1203.3(f) | under a program |
1203.4(b)(1), introductory text | under a program |
1203.4(c)(1), first sentence | a program of | the
1203.5(a)(1), first sentence | to carry out a program |
1203.5(a)(1), first sentence | except a program | except an application
1203.5(a)(1), second sentence | program | award
1203.5(a)(1), sixth sentence | for each program, |
1203.5(a)(1), sixth sentence | in the program |
1203.5(a)(2), second sentence | under a program of | with
1203.5(a)(2), third sentence | program | statute
1203.5(d), introductory text | to carry out a program involving | for
1203.5(d), introductory text | programs | types of Federal financial assistance
1203.6(b), second sentence | of a program under | in
1203.6(d) | program under which | program for which
1203.9(e), first sentence | programs | Federal statutes, authorities, or other means by which Federal financial assistance is extended and
1203.10(f) | under the program involved | to which this regulation applies
1203.10(f) | assistance will | assistance to which this regulation applies will
1203.10(f) | under the programs |
1203.12(a), first sentence | under a program |

PART 1232—NONDISCRIMINATION ON BASIS OF HANDICAP IN PROGRAMS OR ACTIVITIES RECEIVING FEDERAL FINANCIAL ASSISTANCE

7. The heading for part 1232 is revised to read as set forth above.

8. The authority citation for part 1232 continues to read as follows:

Authority: 29 U.S.C. 794.

9. Section 1232.3 is amended by adding a new paragraph (m) to read as follows:

§ 1232.3 Definitions.

* * * * *

(m) Program or activity means all of the operations of any entity described in paragraphs (m)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (m)(1), (2), or (3) of this section.

Subpart C of Part 1232—[Amended]

10. The heading for subpart C of part 1232 is amended by removing the word “Program”.

§ 1232.13 [Amended]

11. The heading for § 1232.13 is amended by removing the word “program”.

12. Section 1232.14 is amended by revising the first sentence of paragraph (a) and paragraph (b) to read as follows:

§ 1232.14 Existing facilities.

(a) A recipient shall operate each program or activity to which this part applies so that when each part is viewed in its entirety it is readily accessible and usable by handicapped persons. * * *

(b) A recipient is not required to make structural changes in existing facilities where other methods are effective in achieving compliance with this section. Where structural changes are necessary to comply with paragraph (a) of this section, such changes shall be made as soon as practicable, but in no event later than three years after the effective date of the regulation.

* * * * *

13. In the table below, for each section indicated in the left column, remove the text shown in the middle column and add the text shown in the right column:

Section | Remove | Add
1232.2, first sentence | or benefits from
1232.2, first sentence | including volunteer programs such as | including, but not limited to
1232.3(k) | under any programs | as
1232.4(b)(1)(v) | program | program or activity
1232.4(b)(2) | programs or activities | aid, benefits, or services
1232.4(b)(3)(ii) | program | program or activity
1232.4(b)(4)(i) | or benefits from |
1232.4(c) | the benefits of a program | aid, benefits, or services
1232.4(c) | from a program | from aid, benefits, or services
1232.4(d) | programs and activities . | programs or activities
1232.4(f) | program | program or activity
1232.4(f) | or benefiting from |
1232.5(a), first sentence | for a program or activity |
1232.5(a), first sentence | program | program or activity
1232.5(c) | volunteer program | program or activity
1232.7(a)(3)(i) | program | program or activity
1232.7(a)(3)(ii) | program | program or activity
1232.7(a)(3)(iii) | program | program or activity
1232.9(a) | or benefits from |
1232.9(c)(8) | social | those that are social
1232.9(c)(8) | programs |
1232.9(d), last sentence | apprenticeship programs | apprenticeships
1232.9(f) | volunteer program | program or activity
1232.10(a) | program | program or activity
1232.10(c), introductory text | program | program or activity
1232.10(c)(1) | program | program or activity

Dated: September 17, 2002.
Frank Trinity,
General Counsel, Corporation for National and Community Service.

DEPARTMENT OF TRANSPORTATION

49 CFR Subtitle A

RIN 2105-AC96

Authority and Issuance

For the reasons set forth in the joint preamble, DOT amends 49 CFR subtitle A, parts 21 and 27 as set forth below:

PART 21—NONDISCRIMINATION IN FEDERALLY-ASSISTED PROGRAMS OF THE DEPARTMENT OF TRANSPORTATION—EFFECTUATION OF TITLE VI OF THE CIVIL RIGHTS ACT OF 1964

1. The authority citation for part 21 is revised to read as follows:

Authority: 42 U.S.C. 2000d-2000d-7.

2. Section 21.7 is amended by removing the fifth sentence of paragraph (a)(1) and by revising the heading of paragraph (b) to read as follows:

§ 21.7 Assurances required.

* * * * *

(b) Continuing Federal financial assistance. * * *

3. Section 21.23 is amended by revising paragraph (e) to read as follows:

§ 21.23 Definitions.

* * * * *

(e) Program or activity and program mean all of the operations of any entity described in paragraphs (e)(1) through (4) of this section, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (e)(1), (2), or (3) of this section.

* * * * *

4. In the table below, for each section indicated in the left column, remove the text shown in the middle column and add the text shown in the right column:

Section | Remove | Add
21.3(a), introductory text, first sentence | federally assisted programs and activities | types of Federal financial assistance
21.3(a), introductory text, second sentence | under any such program
21.3(a)(2) | under any such program
21.3(a)(3) | under any such program
21.3(a), concluding text, first sentence | program or activity | type of Federal financial assistance
21.3(a), concluding text, first sentence | such | a
21.3(a), concluding text, last sentence | programs | types of Federal financial assistance
21.5(b)(1), introductory text | under any program
21.5(b)(6) | programs of | types of Federal financial assistance administered by
21.5(c)(1), first sentence | a program of | the
21.5(c)(1), first sentence | assistance | assistance to a program
21.7(a)(1), first sentence | to carry out a program
21.7(a)(1), first sentence | except a program | except an application
21.7(a)(1), second sentence | program | award
21.7(a)(1), sixth sentence | for each program
21.7(a)(1), sixth sentence | in the program
21.7(a)(2), second sentence | under a program of | with
21.7(a)(2), third sentence | program | statute
21.7(b) | to carry out a program involving | for
21.7(b) | programs | types of Federal financial assistance
21.9(b), second sentence | of any program under | in
21.9(d) | under | for
21.15(e), first sentence | programs | Federal statutes, authorities, or other means by which Federal financial assistance is extended and
21.17(f) | under the program involved | to which this regulation applies
21.17(f) | assistance will | assistance to which this regulation applies will
21.17(f) | under such programs
21.21(a), first sentence | under such program
21.23(d) | for the purpose of carrying out a program
21.23(f) | for any program,
21.23(f) | under any such program

PART 27—NONDISCRIMINATION ON THE BASIS OF DISABILITY IN PROGRAMS OR ACTIVITIES RECEIVING FEDERAL FINANCIAL ASSISTANCE

5. The heading for part 27 is revised to read as set forth above.

6. The authority citation for part 27 continues to read as follows:

Authority: Sec. 504 of the Rehabilitation Act of 1973, as amended (29 U.S.C. 794); sec. 16 (a) and (d) of the Federal Transit Act of 1964, as amended (49 U.S.C. 5310 (a) and (f)); sec. 165(b) of the Federal-Aid Highway Act of 1973, as amended (23 U.S.C. 142 nt.).

Subpart A—General

7. Section 27.5 is amended by revising the definition of Primary recipient and adding, in alphabetical order, a definition of Program or activity to read as follows:

§ 27.5 Definitions.

* * * * *

Primary recipient means any recipient that is authorized or required to extend Federal financial assistance from the Department to another recipient.

Program or activity means all of the operations of any entity described in paragraphs (1) through (4) of this definition, any part of which is extended Federal financial assistance:

(1)(i) A department, agency, special purpose district, or other instrumentality of a State or of a local government; or

(ii) The entity of such State or local government that distributes such assistance and each such department or agency (and each other State or local government entity) to which the assistance is extended, in the case of assistance to a State or local government;

(2)(i) A college, university, or other postsecondary institution, or a public system of higher education; or

(ii) A local educational agency (as defined in 20 U.S.C. 7801), system of vocational education, or other school system;

(3)(i) An entire corporation, partnership, or other private organization, or an entire sole proprietorship—

(A) If assistance is extended to such corporation, partnership, private organization, or sole proprietorship as a whole; or

(B) Which is principally engaged in the business of providing education, health care, housing, social services, or parks and recreation; or

(ii) The entire plant or other comparable, geographically separate facility to which Federal financial assistance is extended, in the case of any other corporation, partnership, private organization, or sole proprietorship; or

(4) Any other entity which is established by two or more of the entities described in paragraph (1), (2), or (3) of this definition.

* * * * *

8. Section 27.7 is amended by revising the heading for paragraph (d) to read as follows:

§ 27.7 Discrimination prohibited.

* * * * *

(d) Aid, benefits, or services limited by Federal law. * * *

9. In the table below, for each section indicated in the left column, remove the text shown in the middle column and add the text shown in the right column:

Section | Remove | Add
27.3(a) | or benefits from
27.5, definition of Qualified handicapped person, paragraph (2) | activities | services
27.5, definition of Recipient | for any Federal program,
27.5, definition of Recipient | under any such program
27.7(a) | or benefits from
27.7(b)(1)(v) | program | program or activity
27.7(b)(3) | programs or activities | aid, benefits, or services
27.7(b)(4)(ii) | program | program or activity
27.7(b)(5)(i) | or benefits from
27.7(b)(6) | or benefitting from
27.7(d) | In programs | For aid, benefits, or services
27.9(a), first sentence | to carry out a program
27.9(a), first sentence | program will | program or activity will
27.9(b)(4) | program | program or activity
27.11(a)(3)(i) | program | program or activity
27.11(a)(3)(ii) | program | program or activity

10. The heading of subpart B is revised to read as follows:

Subpart B—Accessibility Requirements in Specific Operating Administration Programs: Airports, Railroads, and Highways

11. In the table below, for each section indicated in the left column, remove the text shown in the middle column and add the text shown in the right column:

Section | Remove | Add
27.71(b), last sentence | programs | programs or activities
27.77 | Essential Air Service program | Essential Air Service Program

Subpart C—Enforcement

12. In the table below, for each section indicated in the left column, remove the text shown in the middle column and add the text shown in the right column:

Section | Remove | Add
27.121(b), last sentence | of any program under | in
27.121(d) | program | program or activity
27.125(b)(2) | program | program or activity
27.127(f), first sentence | programs | Federal statutes, authorities, or other means by which Federal financial assistance is extended and
27.129(e), first sentence | under the program involved | to which this first regulation applies
27.129(e), last sentence | assistance | assistance to which this regulation applies

Dated: April 27, 2001.
Norman Y. Mineta,
Secretary of Transportation.

[FR Doc. 03-21140 Filed 8-25-03; 8:45 am]

BILLING CODES 3410-94-P, 7590-01-P, 6450-01-P, 8025-01-P, 7510-01-P, 3510-BP-P, 4710-10-P, 6116-01-P, 4410-13-P, 4510-23-P, 8320-01-P, 6560-50-P, 6820-34-P, 4310-RE-P, 6718-01-P, 7555-01-P, 7536-01-P, 7536-01-P, 7036-01-P, 6050-28-P, 4910-62-P